ENVIRONMENTAL PROTECTION AGENCY

40 CFR Part 721

[OPPT-2002-0060; FRL-6758-7]

RIN 2070-AB27

Significant New Uses of Certain Chemical Substances

AGENCY: Environmental Protection Agency (EPA).

ACTION: Direct final rule.

SUMMARY: EPA is promulgating significant new use rules (SNURs) under section 5(a)(2) of the Toxic Substances Control Act (TSCA) for 62 chemical substances which were the subject of premanufacture notices (PMNs) and subject to TSCA section 5(e) consent orders issued by EPA. Today's action requires persons who intend to manufacture, import, or process these substances for a significant new use to notify EPA at least 90 days before commencing the manufacturing or processing of the substance for a use designated by this rule as a significant new use. The required notice will provide EPA with the opportunity to evaluate the intended use, and if necessary, to prohibit or limit that activity before it occurs to prevent any unreasonable risk of injury to human health or the environment. EPA is promulgating this SNUR using direct final procedures.

DATES: The effective date of this rule is May 27, 2003 without further notice, unless EPA receives adverse comment or notice of intent to submit adverse comment before April 28, 2003. This rule shall be promulgated for purposes of judicial review at 1 p.m. (e.s.t.) on April 11, 2003.

If EPA receives adverse comment or notice before April 28, 2003 that someone wishes to submit adverse or critical comments on EPA's action in establishing a SNUR for one or more of the chemical substances subject to this rule, EPA will withdraw the SNUR before the effective date for the substance for which the comment or notice of intent to comment is received and will issue a proposed SNUR providing a 30-day period for public comment.

ADDRESSES: Comments or notice of intent to submit adverse or critical comments may be submitted electronically, by mail, or through hand delivery/courier. Follow the detailed instructions as provided in Unit I. of the SUPPLEMENTARY INFORMATION.

FOR FURTHER INFORMATION CONTACT: For general information contact: Barbara Cunningham, Acting Director, Environmental Assistance Division (7408M), Office of Pollution Prevention and Toxics, Environmental Protection Agency, 1200 Pennsylvania Ave., NW., Washington, DC 20460-0001; telephone number: (202) 554-1404; e-mail address: TSCA-Hotline@epa.gov.

For technical information contact: James Alwood, Chemical Control Division (7405M), Office of Pollution Prevention and Toxics, Environmental Protection Agency, 1200 Pennsylvania Ave., NW., Washington, DC 20460-0001; telephone number: (202) 564-8974; e-mail address: alwood.jim@epa.gov.

SUPPLEMENTARY INFORMATION:

I. General Information

A. Does this Action Apply to Me?

You may be potentially affected by this action if you manufacture, import, process, or use the chemical substances contained in this rule. Potentially affected entities may include, but are not limited to:

• Chemical manufacturers (NAICS 325), e.g., Manufacturers, importers, processors, and users of chemicals.

• Petroleum and coal product industries (NAICS 324), e.g., Manufacturers, importers, processors, and users of chemicals.

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions in title 40 of the Code of Federal Regulations (CFR) at 40 CFR 721.5. If you have any questions regarding the applicability of this action to a particular entity, consult the technical person listed under FOR FURTHER INFORMATION CONTACT.

B. How Can I Get Copies of This Document and Other Related Information?

1. Docket. EPA has established an official public docket for this action under docket identification (ID) number OPPT-2002-0060 . The official public docket consists of the documents specifically referenced in this action, any public comments received, and other information related to this action. Although a part of the official docket, the public docket does not include Confidential Business Information (CBI) or other information whose disclosure is restricted by statute. The official public docket is the collection of materials that is available for public viewing at the EPA Docket Center, Rm. B102-Reading Room, EPA West, 1301 Constitution Ave., NW., Washington, DC. The EPA Docket Center is open from 8:30 a.m. to 4:30 p.m., Monday through Friday, excluding legal holidays. The EPA Docket Center Reading Room telephone number is (202) 566-1744 and the telephone number for the OPPT Docket, which is located in EPA Docket Center, is (202) 566-0280.

2. Electronic access. You may access this Federal Register document electronically through the EPA Internet under the “Federal Register” listings at http://www.epa.gov/fedrgstr/. The OPPTS harmonized test guidelines referenced in this document are available at http://www.epa.gov/opptsfrs/home/guidelin.htm. A frequently updated electronic version of 40 CFR part 721 is available at http://www.access.gpo.gov/nara/cfr/cfrhtml_00/Title_40/40cfr 721_00.html, a beta site currently under development.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in Unit I.B.1. EPA intends to work towards providing electronic access to all of the publicly available docket materials through EPA's electronic public docket.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the docket will be scanned and placed in EPA's electronic public docket. Where practical, physical objects will be photographed, and the photograph will be placed in EPA's electronic public docket along with a brief description written by the docket staff.

C. How and To Whom Do I Submit Comments?

You may submit comments electronically, by mail, or through hand delivery/courier. To ensure proper receipt by EPA, identify the appropriate docket ID number in the subject line on the first page of your comment. Please ensure that your comments are submitted within the specified comment period. Comments received after the close of the comment period will be marked “late.” EPA is not required to consider these late comments. If you wish to submit CBI or information that is otherwise protected by statute, please follow the instructions in Unit I.D. Do not use EPA Dockets or e-mail to submit CBI or information protected by statute.

1. Electronically. If you submit an electronic comment as prescribed in this unit, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. EPA Dockets. Your use of EPA's electronic public docket to submit comments to EPA electronically is EPA's preferred method for receiving comments. Go directly to EPA Dockets at http://www.epa.gov/edocket, and follow the online instructions for submitting comments. Once in the system, select “search,” and then key in docket ID number OPPT-2002-0060. The system is an “anonymous access” system, which means EPA will not know your identity, e-mail address, or other contact information unless you provide it in the body of your comment.

ii. E-mail. Comments may be sent by e-mail to oppt.ncic@epa.gov, Attention: Docket ID Number OPPT-2002-0060. In contrast to EPA's electronic public docket, EPA's e-mail system is not an “anonymous access” system. If you send an e-mail comment directly to the docket without going through EPA's electronic public docket, EPA's e-mail system automatically captures your e-mail address. E-mail addresses that are automatically captured by EPA's e-mail system are included as part of the comment that is placed in the official public docket, and made available in EPA's electronic public docket.

iii. Disk or CD ROM. You may submit comments on a disk or CD ROM that you mail to the mailing address identified in Unit I.C.2. These electronic submissions will be accepted in WordPerfect or ASCII file format. Avoid the use of special characters and any form of encryption.

2. By mail. Send your comments to: Document Control Office (7407M), Office of Pollution Prevention and Toxics (OPPT), Environmental Protection Agency, 1200 Pennsylvania Ave., NW., Washington, DC 20460-0001.

3. By hand delivery or courier. Deliver your comments to: OPPT Document Control Office (DCO) in EPA East Building Rm. 6428, 1201 Constitution Ave., NW., Washington, DC. Attention: Docket ID Number OPPT-2002-0060. The DCO is open from 8 a.m. to 4 p.m., Monday through Friday, excluding legal holidays. The telephone number for the DCO is (202) 564-8930.

D. How Should I Submit CBI To the Agency?

Do not submit information that you consider to be CBI electronically through EPA's electronic public docket or by e-mail. You may claim information that you submit to EPA as CBI by marking any part or all of that information as CBI (if you submit CBI on disk or CD ROM, mark the outside of the disk or CD ROM as CBI and then identify electronically within the disk or CD ROM the specific information that is CBI). Information so marked will not be disclosed except in accordance with procedures set forth in 40 CFR part 2.

In addition to one complete version of the comment that includes any information claimed as CBI, a copy of the comment that does not contain the information claimed as CBI must be submitted for inclusion in the public docket and EPA's electronic public docket. If you submit the copy that does not contain CBI on disk or CD ROM, mark the outside of the disk or CD ROM clearly that it does not contain CBI. Information not marked as CBI will be included in the public docket and EPA's electronic public docket without prior notice. If you have any questions about CBI or the procedures for claiming CBI, please consult the technical person listed under FOR FURTHER INFORMATION CONTACT.

E. What Should I Consider as I Prepare My Comments for EPA?

We invite you to provide your views on the various options we propose, new approaches we haven't considered, the potential impacts of the various options (including possible unintended consequences), and any data or information that you would like the Agency to consider during the development of the final action. You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the rule.

7. Make sure to submit your comments by the deadline in this document.

8. To ensure proper receipt by EPA, be sure to identify the docket ID number assigned to this action in the subject line on the first page of your response. You may also provide the name, date, and Federal Register citation.

II. Background

A. What Action is the Agency Taking?

This SNUR will require persons to notify EPA at least 90 days before commencing manufacturing, importing, or processing a substance for any activity designated by this SNUR as a significant new use. The supporting rationale and background to this rule are more fully set out in the preamble to EPA's first direct final SNUR published in the Federal Register of April 24, 1990 (55 FR 17376). Consult that preamble for further information on the objectives, rationale, and procedures for the rules and on the basis for significant new use designations including provisions for developing test data.

B. What is the Agency's Authority for Taking this Action?

Section 5(a)(2) of TSCA (15 U.S.C. 2604(a)(2)) authorizes EPA to determine that a use of a chemical substance is a “significant new use.” EPA must make this determination by rule after considering all relevant factors, including those listed in section 5(a)(2) of TSCA. Once EPA determines that a use of a chemical substance is a significant new use, section 5(a)(1)(B) of TSCA requires persons to submit a notice to EPA at least 90 days before they manufacture, import, or process the substance for that use. The mechanism for reporting under this requirement is established under 40 CFR 721.5.

C. Applicability of General Provisions

General provisions for SNURs appear under subpart A of 40 CFR part 721. These provisions describe persons subject to the rule, recordkeeping requirements, exemptions to reporting requirements, and applicability of the rule to uses occurring before the effective date of the final rule. Provisions relating to user fees appear at 40 CFR part 700. Persons subject to this SNUR must comply with the same notice requirements and EPA regulatory procedures as submitters of PMNs under section 5(a)(1)(A) of TSCA. In particular, these requirements include the information submission requirements of TSCA section 5(b) and 5(d)(1), the exemptions authorized by TSCA section 5 (h)(1), (h)(2), (h)(3), and (h)(5), and the regulations at 40 CFR part 720. Once EPA receives a SNUR notice, EPA may take regulatory action under TSCA section 5(e), 5(f), 6, or 7 to control the activities on which it has received the SNUR notice. If EPA does not take action, EPA is required under TSCA section 5(g) to explain in the Federal Register its reasons for not taking action.

Persons who intend to export a substance identified in a proposed or final SNUR are subject to the export notification provisions of TSCA section 12(b). The regulations that interpret TSCA section 12(b) appear at 40 CFR part 707. Persons who intend to import a chemical substance identified in a final SNUR are subject to the TSCA section 13 import certification requirements, which are codified at 19 CFR 12.118 through 12.127 and 127.28. Such persons must certify that they are in compliance with SNUR requirements. The EPA policy in support of the import certification appears at 40 CFR part 707.

III. Substances Subject to this Rule

EPA is establishing significant new use and recordkeeping requirements for the following chemical substances under 40 CFR part 721, subpart E. In this unit, EPA provides a brief description for each substance, including its PMN number, chemical name (generic name if the specific name is claimed as CBI), CAS number (if assigned for non-confidential chemical identities), basis for the action taken by EPA in the TSCA section 5(e) consent order or as a non-section 5(e) SNUR for the substance (including the statutory citation and specific finding), toxicity concern, and the CFR citation assigned in the regulatory text section of this rule. The specific uses which are designated as significant new uses are cited in the regulatory text section of this document by reference to 40 CFR part 721, subpart E where the significant new uses are described in detail. Certain new uses, including production limits and other uses designated in the rule are claimed as CBI. The procedure for obtaining confidential information is set out in Unit VII.

Where the underlying TSCA section 5(e) consent order prohibits the PMN submitter from exceeding a specified production limit without performing specific tests to determine the health or environmental effects of a substance, the tests are described in this unit. As explained further in Unit VI., the SNUR for such substances contains the same production limit, and exceeding the production limit is defined as a significant new use. Persons who intend to exceed the production limit must notify the Agency by submitting a significant new use notice (SNUN) at least 90 days in advance. In addition, this unit describes tests that are recommended by EPA to provide sufficient information to evaluate the substance, but for which no production limit has been established in the TSCA section 5(e) consent order. Descriptions of recommended tests are provided for informational purposes.

Data on potential exposures or releases of the substances, testing other than that specified in the TSCA section 5(e) consent order for the substances, or studies on analogous substances, which may demonstrate that the significant new uses being reported do not present an unreasonable risk, may be included with significant new use notification. Persons submitting a SNUN must comply with the same notice requirements and EPA regulatory procedures as submitters of PMNs, as stated in 40 CFR 721.1(c), including submission of test data on health and environmental effects as described in 40 CFR 720.50.

EPA is not publishing SNURs for PMNs for P-99-309, P-99-492/493/494/495/496/497, P-99-847, P-99-1106, P-99-1166, and P-99 -1389, which are subject to a final TSCA section 5(e) consent order. The TSCA section 5(e) consent orders for these substances are derived from an exposure finding based solely on substantial production volume and significant or substantial human exposure and/or release to the environment of substantial quantities. For these cases there were limited or no toxicity data available for the PMN substances. In such cases, EPA regulates the new chemical substances under TSCA section 5(e) by requiring certain toxicity tests. For instance, chemical substances with potentially substantial releases to surface waters would be subject to toxicity testing of aquatic organisms and chemicals with potentially substantial human exposures would be subject to health effects testing for mutagenicity, acute effects, and subchronic effects. However, for these substances, the short-term toxicity testing required by the TSCA section 5(e) consent order is usually completed within 1 to 2 years of notice of commencement (NOC). EPA's experience with exposure-based SNURs requiring short-term testing is that the SNUR is often revoked within 1 to 2 years when the test results are received. Rather than issue and revoke SNURs in such a short span of time, EPA will defer publication of exposure-based SNURs until either a NOC or data demonstrating risk are received unless the toxicity testing required is long-term. EPA is issuing this explanation and notification as required in 40 CFR 721.160(a)(2) as it has determined that SNURs are not needed at this time for these substances which are subject to a final section 5(e) consent order under TSCA.

PMN Numbers P-98-0082/0083/0084

Chemical names: (generic) (P-98-0082 and P-98-0083) Alkoxylated alkylpolyol acrylates, adduct with alkylamine and (generic) (P-98-0084) Alkoxylated alkylpolyol acrylates.

CAS numbers: Not available.

Basis for action: The PMN substances will be used as binders for UV or electron beam curable coatings for wood, paper, and plastics. Based on structural analogy to aliphatic amines, EPA is concerned that toxicity to aquatic organisms may occur at a concentration as low as 1 part per billion (ppb) of the PMN substances in surface waters. Since significant environmental exposure is not expected, as the substances are not released to surface waters, as described in the PMNs, EPA has not determined that the proposed manufacturing, processing, and use of the substances may present an unreasonable risk. EPA has determined, however, that other uses of the substances resulting in release to surface waters may cause significant adverse environmental effects. Based on this information the PMN substances meet the concern criteria at § 721.170(b)(4)(ii).

Recommended testing: EPA has determined that a fish acute toxicity study (OPPTS 850.1075 test guideline (public draft)), a daphnid acute toxicity study (OPPTS 850.1010 test guideline public draft)), and an algal toxicity study (OPPTS 850.5400 test guideline (public draft)) would help to characterize the environmental effects of the PMN substances. All tests should be conducted with the static methods and nominal concentrations.

CFR citation: 40 CFR 721.465.

PMN Numbers P-98-0497 and P-98-0509

Chemical name: Propanoic acid, 2-methyl-, (1R,2R,4R)-1,7,7-trimethylbicyclo[2.2.1]hept-2-yl ester, rel-.

CAS number: 85586-67-0.

Basis for action: The PMN substances will be used as a fragrance compound for air fresheners, soaps, shampoo, household detergents, and bleach. Toxicity data on structurally similar esters indicate that the PMN substances may cause toxicity to aquatic organisms. Based on these data, EPA is concerned that toxicity to aquatic organisms may occur at a concentration of 10 ppb of the PMN substances in surface waters. Since significant environmental exposure is not expected as the PMN substances are not released to surface waters in significant quantities, EPA has not determined that the proposed processing and use of the substances may present an unreasonable risk. EPA has determined, however, that an increase in production volume may result in releases of the PMN substances to surface waters which may cause significant adverse environmental effects. Based on this information the PMN substances meet the concern criteria at § 721.170 (b)(4)(ii).

Recommended testing: The Agency has determined that an algal toxicity study (OPPTS 850.5400 test guideline (public draft)), a daphnid acute toxicity study (OPPTS 850.1010 test guideline (public draft)), and a fish acute toxicity study (OPPTS 850.1075 test guideline (public draft)) would help to characterize possible environmental effects of the substances. The fish and daphnid tests should be conducted with flow-through methods and measured concentrations. The algal test should be conducted with static methods and measured concentrations.

CFR citation: 40 CFR 721.4486.

PMN Number P-98-0823

Chemical name: Dodecanoic acid, 12-amino-.

CAS number: 693-57-2.

Effective date of section 5(e) consent order: August 18, 2000.

Basis for section 5(e) consent order: The order was issued under section 5(e)(1)(A)(i) and section 5(e)(1)(A)(ii) of TSCA based on a finding that this substance may present an unreasonable risk of injury to human health and the environment.

Toxicity concern: This PMN substance will be used as a raw material for Nylon-12. EPA has identified a health concern for carcinogenicity via inhalation exposure based on analogy to 11-aminoundodecanoic acid which caused neoplastic nodules in the liver and transitional cell carcinomas in the urinary bladder of male rats.

Recommended testing: EPA has determined that a carcinogenicity study (OPPTS 870.4200 test guideline) would help to characterize the human health effects.

CFR citation: 40 CFR 721.2584.

PMN Number P-98-1125

Chemical name: (generic) Fatty acid, reaction product with substituted oxirane, formaldehyde-phenol polymer glycidyl ether, substituted propylamine and polythylenepolyamines.

CAS number: Not available.

Basis for action: The PMN substance will be used as a curing agent for epoxy coating systems. Based on structural analogy to aliphatic amines, EPA is concerned that toxicity to aquatic organisms may occur at a concentration as low as 10 ppb of the PMN substance in surface waters. Since significant environmental exposure is not expected as the PMN substance is not released to surface water above 10 ppb, as described in the PMN, EPA has not determined that the proposed manufacturing, processing, and use of the substance may present an unreasonable risk. EPA has determined, however, that other uses of the substance resulting in release to surface waters above 10 ppb may cause significant adverse environmental effects. Based on this information the PMN substance meets the concern criteria at § 721.170(b)(4)(ii).

Recommended testing: EPA has determined that a fish acute toxicity study (OPPTS 850.1075 test guideline (public draft)); a daphnid acute toxicity study (OPPTS 850.1010 test guideline (public draft)), an algal toxicity study (OPPTS 850.5400 test guideline (public draft)), and a fish acute toxicity mitigated by humic acid (‘HA’) of 10 and 20 mg HA per liter diluent would help to characterize the environmental effects of the PMN substance. All studies should use the static methods and nominal concentrations.

CFR citation: 40 CFR 721.6181.

PMN Number P-98-1262

Chemical name: (generic) Reaction product of alkylene diamine, MD1, substituted carbomonocyclic amine and alkylamine.

CAS number: Not available.

Basis for action: The PMN substance will be used as described in the PMN. Based on test data on structurally similar neutral organic chemicals, the PMN substance may cause toxicity to aquatic organisms. Based on the data, EPA is concerned that toxicity to aquatic organisms may occur at a concentration as low as 1 ppb of the PMN substance in surface waters. Since significant environmental exposure is not expected, as the substance is not released to surface waters, as described in the PMN, EPA has not determined that the proposed manufacturing, processing, and use of the substance may present an unreasonable risk. EPA has determined, however, that other uses of the substance resulting in release to surface waters may cause significant adverse environmental effects. Based on this information the PMN substance meets the concern criteria at § 721.170(b)(4)(ii).

Recommended testing: EPA has determined that the results of the following testing would help characterize the environmental effects of the PMN substance: a Melting point (OPPTS 830.7200 test guideline), a fish early-life stage toxicity test (OPPTS 850.1400 test guideline (public draft)), and a daphnid chronic toxicity test (OPPTS 850.1300 test guideline (public draft)). The fish and daphnid tests should be conducted with the flow-through methods and measured concentrations, and hardness of dilution water less than 180 mg/L as CaC03.

CFR citation: 40 CFR 721.2582.

PMN Number P-99-0044

Chemical name: Formaldehyde, polymer with phenol and 1,2,3-propanetriol, methylated.

CAS number: 209810-57-1.

Basis for action: The PMN substance will be used as a bonding agent for mineral aggregates. Based on structural analogy to phenols, EPA is concerned that toxicity to aquatic organisms may occur at a concentration as low as 2 ppb of the PMN substance in surface waters. Since significant environmental exposure is not expected as the PMN substance is not released to surface water above 3 ppb, as described in the PMN, EPA has not determined that the proposed manufacturing, processing, and use of the substance may present an unreasonable risk. EPA has determined, however, that other uses of the substance resulting in releases to surface water above 3 ppb may cause adverse environmental effects. Based on this information the PMN substance meets the concern criteria at § 721.170(b)(4)(ii).

Recommended testing: EPA has determined that an activated sludge sorption isotherm test (OPPTS 835.1110 test guideline), a fish acute toxicity study (OPPTS 850.1075 test guideline (public draft)), a daphnid acute toxicity study (OPPTS 850.1010 test guideline (public draft)), and an algal toxicity study (OPPTS 850.5400 test guideline (public draft)) would help characterize the environmental effects of the PMN substance. The fish and daphid tests should be performed under flow through methods and measured concentrations. The algal test should be performed under static methods and measured concentrations.

CFR citation: 40 CFR 721.3807.

PMN Number P-99-0510

Chemical name: (generic) Hexamethylenediamine adduct of substituted piperidinyloxy.

CAS number: Not available.

Effective date of section 5(e) consent order: December 24, 1999.

Basis for section 5(e) consent order: The order was issued under section 5(e)(1)(A)(i) and section 5(e)(1)(A)(ii)(i) of TSCA based on a finding that this substance may present an unreasonable risk of injury to human health.

Toxicity concern: Based on submitted data on a 28-day subchronic study in rats, the PMN substance has been shown to cause potential liver toxicity, hemolytic effects, and immunotoxicity from inhalation exposure to the PMN substance.

Recommended testing: A 90-day subchronic oral study in rats with emphasis on hematology, the immune system, and male reproductive system (OPPTS 870.3100 test guideline) would help to characterize possible effects of the substance. The PMN submitter has agreed not to exceed the production volume limit without performing the 90-day subchronic oral study.

CFR citation: 40 CFR 721.6205.

PMN Number P-99-0669

Chemical name: Oxirane, methyl-, polymer with oxirane, mono(3,5,5,-trimethylhexyl) ether.

CAS number: 204336-40-3.

Basis for action: The PMN substance will be used as described in the PMN. Based on structural analogy to nonionic surfactants, EPA is concerned that toxicity to aquatic organisms may occur at a concentration of 600 ppb in surface waters. Since significant environmental exposure is unlikely, as the substance is not released to surface waters, as described in the PMN, EPA has not determined that the proposed manufacturing, processing, and use of the substance may present an unreasonable risk. EPA has determined, however, that other uses of the substance resulting in releases to surface waters may cause significant adverse environmental effects. Based on this information the PMN substance meets the concern criteria at § 721.170(b)(4)(ii).

Recommended testing: EPA has determined that a fish acute toxicity study (OPPTS 850.1075 test guideline (public draft)), a daphnid acute toxicity study (OPPTS 850.1010 test guideline (public draft)), and an algal toxicity study (OPPTS 850.5400 test guideline (public draft)) would help to characterize the environmental effects of the PMN substances. The fish and daphnid tests should be conducted with the flow-through methods and measured concentrations, and the algal test should be conducted with static methods and measured concentrations.

CFR citation: 40 CFR 721.522.

PMN Number P-99-0848

Chemical name: (generic) Alkenyl carboxylate, metal salt.

CAS number: Not available.

Effective date of section 5(e) consent order: August 2, 2000.

Basis for section 5(e) consent order: The order was issued under section 5(e)(1)(A)(i) and section 5(e)(1)(A)(ii)(I) of TSCA based on a finding that this substance is expected to enter the environment in substantial quantities and may present an unreasonable risk of injury to the environment.

Toxicity concern: Based on analogy to anionic surfactants the PMN substance may be toxic to aquatic organisms at concentrations as low as 1 ppb.

Recommended testing: EPA has determined that an algal toxicity study (OPPTS 850.5400 test guideline (public draft)), an daphnid acute toxicity study (OPPTS 850.1010 test guideline (public draft)), and an fish acute toxicity study (OPPTS 850.1075 test guideline (public draft)) would help to characterize the environmental effects of the PMN substance. The fish and daphnid tests should be conducted with flow-through methods and measured concentrations and hardness of dilution water with less than 180 mg/L as CaC03. The algal test should be conducted with static methods and measured concentrations. The PMN submitter has agreed not to exceed the production volume limit without performing these tests.

CFR citation: 40 CFR 721.2093.

PMN Number P-99-0873

Chemical name: (generic) Propanetriol polyalkylenepolyolamine aryl aldimine.

CAS number: Not available.

Basis for action: The PMN substance will be used as a binder for industrial coating. Based on additional information and structural analogy to schiff bases and aliphatic amines, EPA is concerned that toxicity to aquatic organisms may occur at a concentration as low as 2 ppb of the PMN substance in surface waters. Since significant environmental exposure is not expected, as the substance is not released to surface waters, EPA has not determined that the proposed manufacturing, processing, and use of the substance may present an unreasonable risk. EPA has determined, however, that other uses of the substance resulting in release to surface waters may cause significant adverse environmental effects. Based on this information the PMN substance meets the concern criteria at § 721.170(b)(4)(ii).

Recommended testing: EPA has determined that an algal toxicity study (OPPTS 850.5400 test guideline (public draft)), a fish acute toxicity study (OPPTS 850.1075 test guideline (public draft)), a daphnid chronic toxicity study (OPPTS 850.1300 test guideline (public draft)) would help to characterize the environmental effects of the PMN substance. The fish and daphnid tests should be conducted with the flow-through methods and measured concentrations and the algal test should be conducted with static methods and measured concentrations.

CFR citation: 40 CFR 721.910.

PMN Number P-99-0874

Chemical name: (generic) Modified polymer of vinyl acetate and quaternary ammonium compound.

CAS number: Not available.

Basis for action: The PMN substance will be used as a modified polyvinyl alcohol. Based on submitted toxicity data for other high molecular weight, water swellable polymers, EPA has identified health concerns for inhalation exposure. Since significant inhalation exposure is unlikely when the substance is used as identified in the PMN, EPA has not determined that the proposed manufacturing, processing, and use of the substance may present an unreasonable risk. EPA has determined, however, that domestic manufacture of the PMN may lead to inhalation exposure which could cause serious health effects. Based on this information the PMN substance meets the concern criteria at § 721.170(b)(3)(ii).

Recommended testing: EPA has determined that a 90-day inhalation toxicity study with a 60-day holding period (OPPTS 870.3465 test guideline) would help to characterize the human health effects of the PMN substance. Attention should be given to the lungs, including histopathology of the lungs (inflamation, epithelial hyperplasia, and fibrosis), bronchoalvelar lavage (BAL) analysis for markers of lung injury, and lung burden analysis for clearance of the test material (EPA-748-R-96-001). The neurotoxicity components and examination of organs other than the lungs are not required.

CFR citation: 40 CFR 721.8658.

PMN Number P-99-0965

Chemical name: Furan, octafluorotetrahydro-.

CAS number: 773-14-8.

Basis for action: The PMN substance will be used as heat transfer agent. EPA believes that other uses of the PMN substance are likely and they have the potential for more widespread environmental exposure causing potential atmospheric changes. EPA is concerned that such atmospheric changes may contribute to global warming. Since significant environmental exposure is unlikely, as described in the PMN, EPA has not determined that the proposed manufacturing, processing, and use of the substance may present an unreasonable risk. EPA has determined, however, that other uses of the substance may result in significant adverse environmental effects. Based on this information the PMN substance meets the concern criteria at § 721.170(b)(4)(ii).

Recommended testing: EPA has determined that infrared absorption, destruction of OH by radical and rate of production of HF for global warming would help to characterize the atmospheric effects of the PMN substance.

CFR citation: 40 CFR 721.3818.

PMN Number P-99-0990

Chemical name: Cobaltate (5-), bis[4-[[6-[(4-amino-6-chloro-1,3,5-triazin-2-yl)amio]-1-hydroxy-3-sulfo-2-naphthalenyl]azo]-3-hydroxy-7-nitro-1-naphthalenesulfonato(4-)]-, pentasodium.

CAS number: 91144-26-2.

Basis for action: Based on structural analogues and submitted test data, EPA has identified health concerns for carcinogenicity and mutagenicity from inhalation exposure to the PMN substance. Since significant worker exposure is unlikely because inhalation exposure is not expected when the substance is used with protective equipment as identified in the PMN, EPA has not determined that the proposed manufacturing, processing, and use of the substance may present an unreasonable risk. EPA has determined, however, that uses of the substance other than as described in the PMN may cause serious health effects. Based on this information the PMN substance meets the concern criteria at § 721.170(b)(1)(i)(B) and (b)(1)(i)(C).

Recommended testing: EPA has determined that a combined chronic toxicity/carcinogenicity study (OPPTS 870.4300 test guideline) would help to characterize the human health effects of the PMN substance.

CFR citation: 40 CFR 721.5283.

PMN Number P-99-1167

Chemical name: L-aspartic acid, N,N'- [(1E) - 1,2 - ethenediylbis[(3-sulfo-4, 1-phenylene)imino[6-(phenylamino)- 1,3,5-triazine-4,2 - diyl]]]bis-, hexasodium salt.

CAS number: 205764-98-3.

Basis for action: The PMN substance will be used as a fluorescent whitener for coated paper. Based on submitted test data, EPA has identified concerns for liver effects. Since significant worker exposure is unlikely because there would not be significant inhalation exposure for the use identified in the PMN, EPA has not determined that the proposed manufacturing, processing, and use of the substance as described in the PMN present an unreasonable risk. EPA has determined, however, that uses of the substance in a powder form or domestic manufacture may cause serious health effects. Based on this information the PMN substance meets the concern criteria at § 721.170(b)(3)(i).

Recommended testing: EPA has determined that a 90-day subchronic oral toxicity study in rodents (OPPTS 870.3100 test guideline) would help to characterize the human health effects of the PMN substance.

CFR citation: 40 CFR 721.4575.

PMN Number P-99-1189

Chemical name: 2-propenoic acid, 2-methyl-, C11-14-isoalkyl esters, C13-rich.

CAS number: 85736-97-6.

Basis for action: The PMN substance will be used as a monomer for casting automotive parts adhesives or as an impregnation fluid. Based on analogy to structurally similar methacrylates and esters, EPA is concerned that toxicity to aquatic organisms may occur at a concentration as low as 1 ppb of the PMN substance in surface waters. Since significant environmental exposure is not expected, as the substance is not released to surface waters above 1 ppb, as described in the PMN, EPA has not determined that the proposed manufacturing, processing, and use of the substance may present an unreasonable risk. EPA has determined, however, that other uses of the substance resulting in release to surface waters above 1 ppb may cause significant adverse environmental effects. Based on this information the PMN substance meets the concern criteria at § 721.170(b)(4)(ii).

Recommended testing: The Agency has determined that the results of the following testing would help to characterize possible environmental effects of the substance: A ready biodegradability test (OPPTS 835.3110 test guideline); a fish early-life stage toxicity study (OPPTS 850.1400 test guideline (public draft)); a mysid chronic toxicity study (OPPTS 850.1350 test guideline (public draft)) for 21 days, flow-through methods and measured concentrations; and a saltwater algal toxicity study, tiers I and II (OPPTS 850.5400 test guideline (public draft)) with the static methods and measured concentrations.

CFR citation: 40 CFR 721.4792.

PMN Numbers P-99-1191 and P-99-1192

Chemical name: (generic) Rare earth phosphate.

CAS number: Not available.

Basis for action: The PMN substances will be used as phosphors. Based on structural analogy to soluble salts and test data for inorganic phosphates, EPA is concerned that toxicity to aquatic organisms may occur at a concentration as low as 2 ppb of the PMN substances in surface waters. Since significant environmental exposure is not expected, as the substances are not released to surface waters above 10 ppb, as described in the PMNs, EPA has not determined that the proposed manufacturing, processing, and use of the substances may present an unreasonable risk. EPA has determined, however, that other uses of the substances resulting in release to surface waters above 10 ppb may cause significant adverse environmental effects. Based on this information the PMN substances meet the concern criteria at § 721.170(b)(4)(ii).

Recommended testing: EPA has determined that a fish acute toxicity study (OPPTS 850.1075 test guideline (public draft)), a daphnid acute toxicity study (OPPTS 850.1010 test guideline public draft)), and an algal toxicity study (OPPTS 850.5400 test guideline (public draft)) would help to characterize the environmental effects of the PMN substances. A flow-through method with measured concentrations of the rare earth metal is recommended for the fish and daphnid study and the static method with measured concentrations for green algae. In addition, the test dilution water and/or test medium should have a measured hardness of less than 180.0 mg/L as CaC03 and a total organic carbon (TOC) concentration of less than 2.0 mg TOC/L.

CFR citation: 40 CFR 721.6005.

PMN Number P-99-1287

Chemical name: (generic) Alkylaminated polyolefin.

CAS number: Not available.

Basis for action: The PMN substance will be used as a gasoline fuel additive. Based on structural analogy to aliphatic amines, EPA is concerned that toxicity to aquatic organisms may occur at a concentration as low as 40 ppb of the PMN substance in surface waters. Since significant environmental exposure is not expected, as the substance is not released to surface waters, as described in the PMN, EPA has not determined that the proposed manufacturing, processing, and use of the substance may present an unreasonable risk. EPA has determined, however, that other uses of the substance resulting in release to surface waters may cause significant adverse environmental effects. Based on this information the PMN substance meets the concern criteria at § 721.170(b)(4)(ii).

Recommended testing: EPA has determined that a fish acute toxicity study (OPPTS 850.1075 test guideline (public draft)), a daphnid acute toxicity study (OPPTS 850.1010 test guideline (public draft)), and an algal toxicity study (OPPTS 850.5400 test guideline (public draft)) would help to characterize the environmental effects of the PMN substance. These tests should be conducted with static methods and nominal concentrations, total organic carbon TOC of dilution water < 2.0 mg TOC/L, hardness of dilution water < 180.0 mg/L as CaC03, and stock solution adjusted to pH 7.0 with HCl.

CFR citation: 40 CFR 721.6178.

PMN Number P-99-1327

Chemical name: Propane, 1,1,1,3,3-pentachloro-.

CAS number: 23153-23-3.

Basis for action: The PMN substance will be used as an intermediate for hydrofluorocarbon production. Based on submitted test data, EPA has identified health concerns for carcinogenicity, liver and kidney toxicity. Based on submitted data on hexachloropropane, concern for immunotoxicity was identified. Also, the Agency identified concern for neurotoxicity, reproductive toxicity in males and females, and concern for irritation and lesions in nasal passages and respiratory passages based on test data on other structural analogues. Since significant worker exposure is unlikely when the substance is used as described in the PMN, EPA has not determined that the proposed manufacturing, processing, and use of the substance may present an unreasonable risk. EPA has determined, however, that use of the substance other than as described in the PMN could result in exposures which may cause serious health effects. Based on this information the PMN substance meets the concern criteria at § 721.170(b)(1)(i)(A), (b)(3)(i), and (b)(3)(ii).

Recommended testing: EPA has determined that a prenatal developmental toxicity study (OPPTS 870.3700 test guideline), carcinogenicity study (OPPTS 870.4200 test guideline), and a reproduction fertility effects study (OPPTS 870.3800 test guideline) by the inhalation route will help to characterize the human health effects of the PMN substance.

CFR citation: 40 CFR 721.533.

PMN Number P-99-1346

Chemical name: Silane, triethoxy (3,3,4,4,5,5,6,6,7,7,8,8,8-tridecafluorooctyl)-.

CAS number: 51851-37-7.

Basis for action: The PMN substance will be used as in anti-graffiti coatings as described in the PMN. Based on structural analogy to alkoxysilanes, EPA has identified health concerns for lung toxicity. Since significant worker exposure is unlikely, when the substance is used with protective equipment as described in the PMN, EPA has not determined that the proposed manufacturing, processing, and use of the substance may present an unreasonable risk. EPA has determined, however, that use of the PMN substance other than as described in the PMN could result in exposures which may cause serious health effects. Based on this information the PMN substance meets the concern criteria at § 721.170(b)(3)(ii).

Recommended testing: EPA has determined that a 90-day subchronic inhalation toxicity study in rats (OPPTS 870.3465 test guideline) would help to characterize the human health effects of the PMN substance.

CFR citation: 40 CFR 721.9504.

PMN Number P-99-1366

Chemical name: (generic) 4,6-Disubstituted pyrimidine.

CAS number: Not available.

Basis for action: The PMN substance will be used as a starting material for synthesis of a chemical intermediate. EPA has identified health concerns for neurotoxicity and immunotoxicity (effects to the spleen) based on test data on an analogous substance, concerns for carcinogenicity and developmental toxicity based on the potential for the PMN substance to act as an arylating agent or as an antimetabolite. Since significant worker exposure is unlikely, when the substance is used as described in the PMN, EPA has not determined that the proposed manufacturing, processing, and use of the substance may present an unreasonable risk. EPA has determined, however, that domestic manufacture could result in exposures which may cause serious chronic and developmental effects. Based on this information the PMN substance meets the concern criteria at § 721.170(b)(3)(ii) and (b)(1)(i)(C).

Recommended testing: EPA has determined that a 90-day subchronic oral toxicity study in rodents (OPPTS 870.3100 test guideline) would help to characterize the human health effects of the PMN substance.

CFR citation: 40 CFR 721.8920.

PMN Number P-99-1399

Chemical name: (generic) Aromatic epoxide resin.

CAS number: Not available.

Basis for action: The PMN substance will be used as a thermoset resin. EPA has identified health concerns for mutagenicity, carcinogenicity, developmental toxicity, male reproductive effects, liver and kidney toxicity based on the epoxide groups. Since significant worker exposure is unlikely, when the substance is used as described in the PMN, EPA has not determined that the proposed manufacturing, processing, and use of the substance may present an unreasonable risk. EPA has determined, however, that use of the PMN substance other than as described in the PMN may cause serious health effects. Based on this information the PMN substance meets the concern criteria at § 721.170(b)(3)(ii).

Recommended testing: EPA has determined that a 90-day subchronic oral toxicity study in rodents with attention to pathology of the reproductive organs (OPPTS 870.3100 test guideline), a reproduction fertility effects study (OPPTS 870.3800 test guideline), and a combined chronic toxicity/carcinogenicity study (OPPTS 870.4300 test guideline) would help to characterize the health effects of the substance.

CFR citation: 40 CFR 721.2673.

PMN Number P-00-0045

Chemical name: (generic) Benzenediazonium, [[[[(substituted) azo]phenyl]sulfonyl]amino]-, coupled with aminophenol, diazotized aminobenzoic acid, diazotized (substituted) benzenesulfonic acid and naphthalenol.

CAS number: Not available.

Basis for action: The PMN substance will be used as described in the PMN. Based on submitted test data, EPA has identified health concerns for methemoglobinemia. Since significant worker exposure is unlikely when used as described in the PMN, EPA has not determined that the proposed manufacturing, processing, and use of the substance may cause significant adverse effects. EPA has determined, however, that domestic manufacture may result in serious health effects. Based on this information the PMN substance meets the concern criteria at § 721.170(b)(3)(ii).

Recommended testing: EPA has determined that a 90-day subchronic oral toxicity study in rodents (OPPTS 870.3100 test guideline) would help to characterize the human health effects of the PMN substance.

CFR citation: 40 CFR 721.5286.

PMN Number P-00-0067

Chemical name: (generic) Alkyl heteropolycyclic-aniline.

CAS number: Not available.

Basis for action: The PMN substance will be used as an industrial intermediate. Based on test data and on structural analogy to anilines, EPA is concerned that toxicity to aquatic organisms may occur at a concentration as low as 1 ppb of the PMN substance in surface waters. Since significant environmental exposure is not expected as the substance is not released to surface water above 1 ppb as described in the PMN, EPA has not determined that the proposed manufacturing, processing, and use of the substance may present an unreasonable risk. EPA has determined, however, that other uses of the substance resulting in release to surface above 1 ppb may cause significant adverse environmental effects. Based on this information the PMN substance meets the concern criteria at § 721.170(b)(4)(i) and (b)(4)(ii).

Recommended testing: EPA has determined that a daphnid chronic toxicity test (OPPTS 850.1300 test guideline (public draft)), a fish early-life stage toxicity test (OPPTS 850.1400 test guideline (public draft)) conducted with flow-through methods and measured concentrations, dilution water hardness < 180.0 mg/L as CaC03, and a Porous Pot (OPPTS 835.3220 test guideline) would help to characterize the environmental effects.

CFR citation: 40 CFR 721.4136.

PMN Number P-00-0094

Chemical name: (generic) Salt of a substituted sulfonated aryl azo compound.

CAS number: Not available.

Basis for action: The PMN substance will be used as a colorant for coating compositions. EPA has identified health concerns for testicular effects, blood effects, and liver toxicity based on submitted test data. Since significant worker exposure is unlikely, when the substance is used as described in the PMN, EPA has not determined that the proposed manufacturing, processing, and use of the substance may present an unreasonable risk. EPA has determined however, that domestic manufacture could result in exposures which may cause serious health effects. Based on this information the PMN substance meets the concern criteria at § 721.170(b)(3)(i).

Recommended testing: EPA has determined that a 90-day subchronic oral toxicity study in rodents (OPPTS 870.3100 test guideline) would help to characterize the human health effects of the PMN substance.

CFR citation: 40 CFR 721.9597.

PMN Number P-00-0108

Chemical name: (generic) Alkoxyamino-alkyl-coumarin.

CAS number: Not available.

Basis for action: The PMN substance will be used as a chemical tracer. Based on structural analogy to coumarins, EPA has identified health concerns for developmental toxicity and carcinogenicity. Since significant worker exposure is unlikely when the substance is used as described in the PMN, EPA has not determined that the proposed manufacturing, processing, and use of the substance may present an unreasonable risk. EPA has determined, however, that domestic manufacture could result in exposures which may cause serious health effects. Based on this information the PMN substance meets the concern criteria at § 721.170(b)(3)(ii) and (b)(1)(i)(C).

Recommended testing: EPA has determined that a 90-day subchronic oral study in rodents (OPPTS 870.3100 test guideline) and a prenatal developmental toxicity study (OPPTS 870.3700 test guideline) would help to characterize the human health effects of the PMN substance.

CFR citation: 40 CFR 721.2155.

PMN Number P-00-0202

Chemical name: (generic) Reaction product of substituted aromatic diol, formaldehyde and alkanolamine, propoxylated.

CAS number: Not available.

Basis for action: The PMN substance will be used as foam insulation. Based on structural analogy to aliphatic amines, EPA is concerned that toxicity to aquatic organisms may occur at a concentration as low as 10 ppb of the PMN substance in surface waters. Since significant environmental exposure is not expected, as the substance is not released to surface waters, as described in the PMN, EPA has not determined that the proposed manufacturing, processing, and use of the substance may present an unreasonable risk. EPA has determined, however, that other uses of the substance resulting in release to surface water may cause significant adverse environmental effects. Based on this information the PMN substance meets the concern criteria at § 721.170(b)(4)(ii).

Recommended testing: EPA has determined that a fish acute toxicity study (OPPTS 850.1075 test guideline (public draft)), a daphnid acute toxicity study (OPPTS 850.1010 test guideline (public draft)), and an algal toxicity study (OPPTS 850.5400 test guideline (public draft)) would help to characterize the environmental effects of the PMN substance. All tests should be conducted with static methods and nominal concentrations, dilution water total organic carbon TOC < 2.0 mg TOC/L dilution water hardness < 180.0 mg/L as CaC03, and stock solution adjusted to pH 7.0.

CFR citation: 40 CFR 721.8085.

PMN Number P-00-0330

Chemical name: Oxirane, [[[(1R,2S,5R)-5-methyl-2-(1-methylethyl)cyclohexyl]oxy]methyl]-.

CAS number: 249297-16-3.

Basis for action: The PMN substance will be used as a chemical intermediate. Based on data for monoepoxides, EPA has identified health concerns for mutagenicity, carcinogenicity, male reproductive toxicity, developmental toxicity, and liver and kidney toxicity for the epoxide. Also, based on analogy to epoxides, EPA is concerned that toxicity to aquatic organisms may occur at a concentration as low as 30 ppb of the PMN substance in surface waters. Since significant worker and environmental exposure is unlikely when the substance is used as described in the PMN, EPA has not determined that the manufacturing, processing, and use of the PMN substance may present an unreasonable risk. EPA has determined, however, that use of the substance other than as an intermediate could result in exposures which may cause serious health effects and significant adverse environmental effects. Based on this information the PMN substance meets the concern criteria at § 721.170(b)(3)(ii), (b)(1)(i) (C), and (b)(4)(ii).

Recommended testing: EPA has determined that a 90-day subchronic oral toxicity study in rodents (OPPTS 870.3100 test guideline), with attention to pathology of the reproductive organs, and a carcinogenicity study (OPPTS 870.4200 test guideline) would help to characterize the health effects of the substance. In addition, the following acute aquatic toxicity tests would help to characterize the environmental effects. A fish acute toxicity study (OPPTS 850.1075 test guideline (public draft)), a daphnid acute toxicity study (OPPTS 850.1010 test guideline (public draft)), and an algal toxicity study (OPPTS 850.5400 test guideline (public draft)). The fish and daphnid tests should be conducted with flow-through methods and measured concentrations. The algal test should be conducted with static methods and measured concentrations.

CFR citation: 40 CFR 721.5590.

PMN Numbers P-00-0333 and P-00-0334

Chemical name: (generic) Salt of an acrylate copolymer.

CAS number: Not available.

Basis for action: The PMN substances will be used as an additive. EPA has identified concerns for lung toxicity and lung tumors based on data on certain high molecular weight polymers. Since significant worker exposure is unlikely as inhalation exposure is not expected for the uses described in the PMNs, EPA has not determined that the proposed manufacturing, processing, and use of the substances may present an unreasonable risk. EPA has determined, however, that uses of the substances in a solid form may cause serious health effects. Based on this information the PMN substances meet the concern criteria at § 721.170(b)(3)(ii).

Recommended testing: EPA has determined that a 90-day inhalation toxicity study with a 60-day holding period (OPPTS 870.3465 test guideline) would help characterize the human health effects of the PMN substance. Attention should be given to the lungs, including histopathology of the lungs (inflamation, epithelial hyperplasia, and fibrosis), bronchoalvelar lavage (BAL) analysis for markers of lung injury, and lung burden analysis for clearance of the test material (EPA-748-R-96-001). The neurotoxicity components and examination of organs other than the lungs are not required.

CFR citation: 40 CFR 721.338.

PMN Number P-00-0351

Chemical name: (generic) Amino-hydroxy sulfonaphthylazo-disubstituted phenyl azo benzene carboxylate salt.

CAS number: Not available.

Basis for action: The PMN substance will be used as described in the PMN. Based on submitted data on a 28-day study in rats with a no observed adverse effect level (NOAEL) of 25 mg/kg/day, EPA has identified concerns for liver and kidney effects. Additionally, based on analogy of the azo reduction product of the PMN substance, EPA has concerns for carcinogenicity, developmental toxicity, and immunotoxicity. Since significant worker exposure is unlikely as inhalation exposure is not expected for the use described in the PMN, EPA has not determined that manufacturing, processing, and use of the substance as described in the PMN may present an unreasonable risk. EPA has determined, however, that use of the substance as a solid may cause serious health effects. Based on this information the PMN substance meets the concern criteria at § 721.170(b)(3)(ii), (b)(3)(iii), and (b)(1)(i)(D).

Recommended testing: EPA has determined that a prenatal developmental toxicity study by the oral route in two species (OPPTS 870.3700 test guideline) and an Ames assay with the Prival modification and a concurrent positive control (OPPTS 870.5100 test guideline) would help to characterize the human health effects of the PMN substance.

CFR citation: 40 CFR 721.984.

PMN Number P-00-0353

Chemical name: (generic) Alkoxylated aliphatic diisocyanate allyl ether.

CAS number: Not available.

Basis for action: The PMN substance will be used as an additive for surface coatings and for plastics and plastic surfaces. Based on structural analogy to esters and allylic and vinyl ethers, EPA is concerned that toxicity to aquatic organisms may occur at a concentration as low as 9 ppb of the PMN substance in surface waters. Since significant environmental exposure is not expected, as the PMN substance is not released to surface waters, as described in the PMN, EPA has not determined that the proposed manufacturing, processing, and use of the substance may present an unreasonable risk. EPA has determined, however, that other uses of the substance resulting in release to surface waters may cause significant adverse environmental effects. Based on this information the PMN substance meets the concern criteria at § 721.170(b)(4)(ii).

Recommended testing: EPA has determined that a fish chronic toxicity study (OPPTS 850.1400 test guideline (public draft)), a daphnid chronic toxicity study (OPPTS 850.1300 test guideline (public draft)), and an algal toxicity study (OPPTS 850.5400 test guideline (public draft)) would help to characterize the environmental effects of the PMN substance. The fish and daphnid tests should be conducted with flow-through methods and measured concentrations, dilution water hardness less than 180.0 mg/L as CaC03. The algal test should be conducted with static methods and measured concentrations.

CFR citation: 40 CFR 721.9952.

PMN Numbers P-00-0364 and P-00-0365

Chemical name: (generic) Copper complex of (substituted sulfonaphthyl azo substituted phenyl) disulfonaphthyl azo, amine salt.

CAS number: Not available.

Basis for action: The PMN substances will be used as described in the PMNs. Based on analogy to structurally similar substances, EPA has identified concerns for mutagenicity, carcinogenicity, and developmental toxicity. Since significant worker exposure is unlikely as inhalation exposure is not expected for the uses described in the PMNs, EPA has not determined that the proposed manufacturing, processing, and use of the substances may present an unreasonable risk. EPA has determined, however, that use of the substances as a powder may cause serious health effects. Based on this information the PMN substances meet the concern criteria at § 721.170(b)(3)(ii) and (b)(1)(i)(C).

Recommended testing: EPA has determined that a prenatal developmental toxicity study by the oral route in two species (OPPTS 870.3700 test guideline) would help to characterize the human health effects of the PMN substance.

CFR citation: 40 CFR 721.2577.

PMN Number P-00-0420

Chemical name: (generic) Substituted phenylazophenylazo phenol.

CAS number: Not available.

Basis for action: The PMN substance will be used as a colorant. Based on structural analogy to phenols, EPA is concerned that toxicity to aquatic organisms may occur at a concentration as low as 1 ppb of the PMN substance in surface waters. Since significant environmental exposure is not expected, as the substance is not released to surface waters, as described in the PMN, EPA has not determined that the proposed manufacturing, processing and use of the substance may present an unreasonable risk. EPA has determined, however, that other uses of the substance resulting in release to surface water may cause significant adverse environmental effects. Based on this information the PMN substance meets the concern criteria at § 721.170(b)(4)(ii).

Recommended testing: EPA has determined that a fish acute toxicity study (OPPTS 850.1075 test guideline (public draft)), a daphnid acute toxicity study (OPPTS 850.1010 test guideline (public draft)), and an algal toxicity study (OPPTS 850.5400 test guideline (public draft)) would help to characterize the environmental effects of the PMN substance. The fish and daphnid tests should be conducted with flow-through methods and measured concentrations. The algal test should be conducted with static methods and measured concentrations. Dilution water hardness less than 180.0 mg/L as CaC03.

CFR citation: 40 CFR 721.843

PMN Number P-00-0469

Chemical name: Glycine, N-(carboxymethyl)-N-dodecyl-, monosodium salt.

CAS number: 141321-68-8.

Basis for action: The PMN substance will be used as a surfactant. Based on structural analogy to alkyl amphoteric surfactants, EPA is concerned that toxicity to aquatic organisms may occur at a concentration as low as 30 ppb of the PMN substance in surface waters. Since significant environmental exposure is not expected as the PMN substance is not released to surface water above 30 ppb, as described in the PMN, EPA has not determined that the proposed manu-facturing, processing, and use of the substance may present an unreasonable environmental risk. EPA has determined, however, that other uses of the substance resulting in release to surface water above 30 ppb may cause significant adverse environmental effects. Based on this infor-mation the PMN substance meets the concern criteria at § 721.170(b)(4)(ii).

Recommended testing: EPA has determined that the following acute aquatic toxicity tests would help to characterize the environmental effects: a fish acute toxicity study (OPPTS 850.1075 test guideline (public draft)), a daphnid acute toxicity study (OPPTS 850.1010 test guideline (public draft)), and an algal toxicity study (OPPTS 850.5400 test guideline (public draft)). The fish and daphnid tests should be conducted with flow-through methods and measured concentrations. The algal test should be conducted with static methods and measured concentrations, dilution water total organic carbon TOC < 2.0 mg TOC/L dilution water hardness < 180.0 mg/L as CaC03, and stock solution adjusted to pH 7.0.

CFR citation: 40 CFR 721.3848.

PMN Number P-00-0490

Chemical name: (generic) Substituted acrylamides and acrylic acid copolymer.

CAS number: Not available.

Basis for action: The PMN substance will be used as a delivery substrate. EPA has identified concerns for lung toxicity and carcinogenicity if the substance is inhaled based on data for certain high molecular weight polymers. Since significant worker exposure is unlikely as inhalation exposure to worker is not expected for the use described in the PMN, EPA has not determined that the proposed manufacturing, processing, and use of the substances may present an unreasonable risk. EPA has determined, however, that domestic manufacture, or processing and use of the substance in a powder form may cause serious health effects. Based on this information the PMN substance meets the concern criteria at § 721.170(b)(3)(ii) and (b(1)(i)(C).

Recommended testing: EPA has determined that a 90-day inhalation toxicity study with a 60-day holding period (OPPTS 870.3465 test guideline) would help characterize the human health effects of the PMN substance. Attention should be given to the lungs, including histopathology of the lungs (inflamation, epithelial hyperplasia, and fibrosis), bronchoalvelar lavage (BAL) analysis for markers of lung injury, and lung burden analysis for clearance of the test material (EPA-748-R-96-001). The neurotoxicity components and examination of organs other than the lungs are not required.

CFR citation: 40 CFR 721.321.

PMN Number P-00-0542

Chemical name: (generic) Substituted phenols and formaldehyde polymer, alkylated.

CAS number: Not available.

Basis for action: The PMN substance will be used as a resin for can and tube coatings. Based on structural analogy to polyphenol reaction products, EPA is concerned that toxicity to aquatic organisms may occur at a concentration as low as 4 ppb of the PMN substance in surface waters. Since significant environmental exposure is unlikely, as the substance is not released to surface waters, as described in the PMN, EPA has not determined that the proposed manufacturing, processing, and use of the substance may prevent an unreasonable risk. EPA has determined, however, that other uses of the substance resulting in releases to surface waters may cause significant adverse environmental effects. Based on this information the PMN substance meets the concern criteria at § 721.170(b)(4)(ii).

Recommended testing: EPA has determined that a fish acute toxicity study (OPPTS 850.1075 test guideline (public draft)), a daphnid acute toxicity study (OPPTS 850.1010 test guideline (public draft)), and an algal toxicity study (OPPTS 850.5400 test guideline (public draft)) would help to characterize the environmental effects of the PMN substance. The fish and daphnid tests should be conducted with flow-through methods and measured concentration. The algal test should be conducted with static methods and measured concentration. Dilution water hardness < 180 mg/L as CaC03.

CFR citation: 40 CFR 721.3812.

PMN Number P-00-0559

Chemical name: (generic) Methylated-para-rosaniline salt of a trisulfonated triarylmethane dye.

CAS number: Not available.

Basis for action: The PMN substance will be used as a colorant for inks. EPA has identified health concerns for carcinogenicity and developmental toxicity based on analogy to gentian violet. Since significant worker exposure is unlikely when the substance is used as described in the PMN, EPA has not determined that the proposed processing and use of the substance may present a unreasonable risk. EPA has determined however, that domestic manufacturing could result in exposures which may cause serious health effects. Also, based on analogy to cationic dyes. EPA is also concerned that toxicity to aquatic organisms may occur at a concentration as low as 2 ppb of the PMN substance in surface waters. Since significant environmental exposure is not expected as the PMN substance is not released to surface water above 2 ppb, as described in the PMN, EPA has not determined that the proposed manufacturing, processing, and use of the substance may present an unreasonable environmental risk. EPA has determined, however, that other uses of the substance resulting in release to surface water above 2 ppb may cause significant adverse environmental effects. Based on this information the PMN substance meets the concern criteria at § 721.170 (b)(1)(i)(C), (b)(3)(ii), and (b)(4)(ii).

Recommended testing: EPA has determined that the following acute aquatic toxicity tests would help to characterize the environmental effects: a fish acute toxicity study (OPPTS 850.1075 test guideline (public draft)), a daphnid acute toxicity study (OPPTS 850.1010 test guideline (public draft)), and an algal toxicity study (OPPTS 850.5400 test guideline (public draft)). The fish and daphnid tests should be conducted with flow-through methods and measured concentrations, dilution water total organic carbon TOC < 2.0 mg TOC/L. The algal test should be conducted with static methods and measured concentration. Dilution water hardness < 180.0 mg/L as CaC03. EPA has also determined that a prenatal developmental toxicity study by the oral route in two-species (OPPTS 870.3700 test guideline) would help to characterize the human health effects of the PMN substance.

CFR citation: 40 CFR 721.9520.

PMN Number P-00-0618

Chemical name: (generic) Substituted hydroxyalkane acetate.

CAS number: Not available.

Basis for action: The PMN substance will be used as described in the PMN. EPA has concerns for liver toxicity, kidney toxicity, and developmental toxicity based on a 28-day subchronic inhalation study in rats and a developmental toxicity study in rats for an analog of the PMN material; EPA identified concerns for neurotoxicity and carcinogenicity based on analog data. Since significant worker exposure is unlikely as inhalation exposure is not expected for the use described in the PMN, EPA has not determined that manufacturing, processing, and use of the substance as described in the PMN may present an unreasonable risk. EPA has determined, however, that use of the substance other than as described in the PMN may cause serious health effects. Based on this information the PMN substance meets the concern criteria at § 721.170 (b)(3)(i), (b)(3)(ii), and (b)(1)(i)(C).

Recommended testing: EPA has determined that a prenatal developmental toxicity study by the oral route in two species (OPPTS 870.3700 test guideline) and a 90-day inhalation toxicity study with a 60-day holding period (OPPTS 870.3465 test guideline) would help to characterize the human health effects of the PMN substance.

CFR citation: 40 CFR 721.532.

PMN Number P-00-0626

Chemical name: (generic) Acrylate of polymer based on isophorone diisocyanate.

CAS number: Not available.

Basis for action: The PMN substance will be used as an additive for inks and coatings. Based on structural analogy to acrylates, EPA is concerned that toxicity to aquatic organisms may occur at a concentration as low as 1 ppb of the PMN substance in surface waters. Since significant environmental exposure is not expected as the PMN substance is not released to surface water above 3 ppb, as described in the PMN, EPA has not determined that the proposed manufacturing, processing, and use of the substance may present an unreasonable environmental risk. EPA has determined, however, that other uses of the substance resulting in release to surface water above 3 ppb may cause significant adverse environmental effects. Based on this information the PMN substance meets the concern criteria at § 721.170(b)(4)(ii).

Recommended testing: EPA has determined that the following acute aquatic toxicity tests would help to characterize the environmental effects: a fish acute toxicity study (OPPTS 850.1075 test guideline (public draft)), a daphnid acute toxicity study (OPPTS 850.1010 test guideline (public draft)), and an algal toxicity study (OPPTS 850.5400 test guideline (public draft)). The fish and daphnid tests should be conducted with flow-through methods and measured concentrations The algal test should be conducted with static methods and measured concentrations. Dilution water hardness < 180.0 mg/L as CaC03.

CFR citation: 40 CFR 721.463.

PMN Number P-00-0637

Chemical name: Methylium, triphenyl-, tetrakis(pentafluorophenyl)borate (l-).

CAS number: 136040-19-2.

Basis for action: The use of the substance is as described in the PMN. Based on structural analogy to organoborates, EPA is concerned that toxicity to aquatic organisms may occur at a concentration as low as 1 ppb of the PMN substance in surface waters. Since significant environmental exposure is not expected, as the substance is not released to surface waters, as described in the PMN, EPA has not determined that the proposed manufacturing, processing, and use of the substance may present an unreasonable risk. EPA has determined, however, that other uses of the substance resulting in release to surface waters may cause significant adverse environmental effects. Based on this information the PMN substance meets the concern criteria at § 721.170(b)(4)(ii).

Recommended testing: EPA has determined that a fish acute toxicity study (OPPTS 850.1075 test guideline (public draft)), a daphnid acute toxicity study (OPPTS 850.1010 test guideline (public draft)), and an algal toxicity study (OPPTS 850.5400 test guideline (public draft)) would help to characterize the environmental effects of the PMN substance. The fish and daphnid tests should be conducted with flow-through methods and measured concentrations. The algal test should be conducted with static methods and measured concentrations. Dilution water hardness less than 180.0 mg/L as CaC03.

CFR citation: 40 CFR 721.5454.

PMN Number P-00-0638

Chemical name: (generic) Alkali metal salt of halogenated organoborate.

CAS number: Not available.

Basis for action: The use of the substance is as described in the PMN. Based on structural analogy to organoborates, EPA is concerned that toxicity to aquatic organisms may occur at a concentration as low as 3 ppb of the PMN substances in surface waters. Since significant environmental exposure is not expected, as the substance is not released to surface waters, as described in the PMN, EPA has not determined that the proposed manufacturing, processing, and use of the substance may present an unreasonable risk. EPA has determined, however, that other uses of the substance resulting in release to surface waters may cause significant adverse environmental effects. Based on this information the PMN substance meets the concern criteria at § 721.170(b)(4)(ii).

Recommended testing: EPA has determined that a fish acute toxicity study (OPPTS 850.1075 test guideline (public draft)), a daphnid acute toxicity study (OPPTS 850.1010 test guideline (public draft)), and an algal toxicity study (OPPTS 850.5400 test guideline (public draft)) would help to characterize the environmental effects of the PMN substance. The fish and daphnid tests should be conducted with flow-through methods and measured concentrations. The algal test should be conducted with static methods and measured concentrations. Dilution water hardness less than 180.0 mg/L as CaC03.

CFR citation: 40 CFR 721.5452.

PMN Number P-00-0691

Chemical name: Amides, from ammonium hydroxide - maleic anhydride polymer and hydrogenated tallow alkyl amines, sodium salts, compds. with ethanolamine.

CAS number: 208408-03-1.

Basis for action: The PMN substance will be used as described in the PMN. Based on structural analogy to anionic surfactants. EPA is concerned that toxicity to aquatic organisms may occur at a concentration as low as 80 ppb of the PMN substance in surface waters. Since significant environmental exposure is not expected as the PMN substance is not released to surface water above 80 ppb, as described in the PMN, EPA has not determined that the proposed manufacturing, processing, and use of the substance may present an unreasonable risk. EPA has determined, however, other uses of the substance resulting in release to surface waters above 80 ppb may cause significant adverse environmental effects. Based on this information the PMN substance meets the concern criteria at § 721.170(b)(4)(ii).

Recommended testing: EPA has determined that the following acute aquatic toxicity tests would help to characterize the environmental effects: a fish acute toxicity study (OPPTS 850.1075 test guideline (public draft)), a daphnid acute toxicity study (OPPTS 850.1010 test guideline (public draft)), and an algal toxicity study (OPPTS 850.5400 test guideline (public draft)). The fish and daphnid tests should be conducted with flow-through methods and measured concentrations. The algal test should be conducted with static methods and measured concentrations. Dilution water hardness < 180.0 mg/L as CaC03.

CFR citation: 40 CFR 721.6183.

PMN Number P-00-0698

Chemical name: (generic) Lithium salt of a sulfophenyl azo phenyl azo disulfostilbene.

CAS number: Not available.

Basis for action: The PMN substance will be used as described in the PMN. Based on analogy to structurally similar substance, EPA has identified concerns for liver toxicity, developmental toxicity, neurotoxicity, and blood toxicity for the aromatic amine azo reduction product. Since significant worker exposure is unlikely as inhalation exposure is not expected for the uses described in the PMN, EPA has not determined that the proposed manufacturing, processing, and use of the substance may present an unreasonable risk. EPA has determined, however, that use of the substance as a solid may cause serious health effects. Based on this information the PMN substance meets the concern criteria at § 721.170(b)(3)(iii).

Recommended testing: EPA has determined that a prenatal developmental toxicity study by the oral route in two species (OPPTS 870.3700 test guideline) and a 90-day subchronic oral toxicity study in rodents (OPPTS 870.3100 test guideline) would help to characterize the human health effects of the PMN substance.

CFR citation: 40 CFR 721.9538.

PMN Number P-00-0738

Chemical name: Formaldehyde, reaction products with 1,3-benzenedimethanamine and bisphenol A.

CAS number: 259871-68-6.

Basis for action: The PMN substance will be used as coatings for railcars and marine vessels. Based on structural analogy to phenols and aliphatic amines, EPA is concerned that toxicity to aquatic organisms may occur at a concentration as low as 20 ppb of the PMN substance in surface waters. Since significant environmental exposure is not expected as the PMN substance is not released to surface waters, as described in the PMN, EPA has not determined that the proposed manufacturing, processing, and use of the substance may present an unreasonable risk. EPA has determined, however, that other uses of the substance resulting in releases to surface waters may cause significant adverse environmental effects. Based on this information the PMN substance meets the concern criteria at § 721.170(b)(4)(ii).

Recommended testing: EPA has determined that a fish acute toxicity study (OPPTS 850.1075 test guideline (public draft)), a daphnid acute toxicity study (OPPTS 850.1010 test guideline (public draft)), and an algal toxicity study (OPPTS 850.5400 test guideline (public draft)) would help to characterize the environmental effects of the PMN substance. These tests should be conducted with the static methods and nominal concentrations, dilution water total organic carbon TOC < 2.0 mg TOC/L dilution water hardness < 180.0 mg/L as CaC03, and stock solution adjusted to pH 7.0. EPA has also determined that an activated sludge isotherm test (OPPTS 835.1110 test guideline) would help to characterize the environmental fate of the PMN substance.

CFR citation: 40 CFR 721.3805.

PMN Number P-00-0789

Chemical name: 1,4-Benzedicarboxylic acid, dimethyl ester, polymer with 1,4 - butanediol, cyclized.

CAS number: 263244-54-8.

Basis for action: The PMN substance will be used as a curable thermoplastic resin. EPA has identified health and environmental concerns because the substance is potentially a persistent, bioaccumulative, and toxic (PBT) chemical, EPA estimates that the PMN substance will persist in the environment more than two months and estimates a bioaccumulation factor of greater than or equal to 1,000. Also based on structural analogy to esters, EPA expects toxicity to aquatic organisms at surface water concentrations as low as 9 ppb. Since significant environmental exposure is not expected as the substance is not released to surface waters, described in the PMN, EPA has not determined that the proposed manufacturing, processing, and use of the substance may present an unreasonable risk. EPA has determined, however, that other uses of the substance resulting in release to surface water may cause significant adverse environmental effects. Based on this information the PMN substance meets the concern criteria at § 721.170(b)(4)(ii).

Recommended testing: EPA has determined that the results of the tiered testing as described in the New Chemicals Program's PBT Policy Statement (63 FR 60194; November 4, 1999) (FRL-6097-7) would help to characterized the properties of the substance. EPA has also determined that the following aquatic toxicity tests: a fish chronic toxicity study (OPPTS 850.1400 test guideline (public draft)), a daphnid chronic toxicity study (OPPTS 850.1300 test guideline (public draft)), and an algal toxicity study (OPPTS 850.5400 test guideline (public draft)) would help to characterize the environmental effects of the PMN substance. The fish and daphnid tests should be conducted with flow-through methods and measured concentrations. The algal test should be conducted with static methods and measured concentrations. Dilution water hardness < 180.0 mg/L as CaC03.

CFR citation: 40 CFR 721.990.

PMN Number P-00-0803

Chemical name: (generic) 2,7-Naphthalenedisulfonic acid, 5-[[4-chloro-6-[substituted] amino]-1,3,5-triazin-2-yl]amino]-4-hydroxy-3-[(1-sulfo-2-naphthalenyl)azo]-, trisodium salt.

CAS number: Not available.

Basis for action: The PMN substance will be used as a textile dye. EPA has identified health concerns for mutagenicity and developmental toxicity based on one of the substituents on an azo reduction product. Since significant worker exposure is unlikely when the substance is used as described in the PMN, EPA has not determined that the proposed manufacturing, processing, and use of the substance may present an unreasonable risk. EPA has determined, however, that domestic manufacture could result in exposures which may cause serious health effects. Based on this information the PMN substance meets the concern criteria at § 721.170(b)(3)(iii).

Recommended testing: EPA has determined that a prenatal developmental toxicity study by the oral route in rats (OPPTS 870.3700 test guideline) would help to characterize the human health effects of the PMN substance.

CFR citation: 40 CFR 721.5262.

PMN Number P-00-0806

Chemical name: 1,3,6-Naphthalenetrisulfonic acid, 7-[[2-[(aminocarbonyl)amino]-4-[[4-[[2-[2-(ethenylsulfonyl)ethoxy]ethyl]amino]-6-fluoro-1,3,5-triazin-2-yl]amino]phenyl]azo], trisodium salt.

CAS number: 106359-91-5.

Basis for action: The PMN substance will be used as a textile dye. Based on submitted test data, EPA has identified health concerns for mutagenicity, dermal sensitization and possible irreversible cornea staining; developmental toxicity and carcinogenicity based on one of the substituents on an azo reduction product. Since significant worker exposure is unlikely when the substance is used as described in the PMN, EPA has not determined that the proposed manufacturing, processing, and use of the substance may present an unreasonable risk. EPA has determined, however, that domestic manufacture could result in exposures which may cause serious health effects. Based on this information the PMN substance meets the concern criteria at § 721.170(b)(3)(i), (b)(l)(i)(D), and (b)(3)(iii).

Recommended testing: EPA has determined that a prenatal developmental toxicity study by the oral route in rats (OPPTS 870.3700 test guideline) would help to characterize the human health effects of the PMN substance.

CFR citation: 40 CFR 721.5260.

PMN Number P-00-0816

Chemical name: (generic) Alkyl dialkylamino phenylsulfonyl alkenoate.

CAS number: Not available.

Basis for action: The PMN substance will be used as described in the PMN. Based on test data for structurally similar compounds, EPA has identified health concerns for kidney and liver toxicity. Since significant worker exposure is unlikely when the substance is used as described in the PMN, EPA has not determined that the proposed manufacturing, processing, and use of the substance may present an unreasonable risk. EPA has determined, however, that domestic manufacture could result in exposures which may cause serious health effects. Based on this information the PMN substance meets the concern criteria at § 721.170(b)(3)(i). Also, based on structural analogy to aliphatic amines, acrylates, and allylic and vinyl sulfones, EPA is concerned that toxicity to aquatic organisms may occur at a concentration as low as 1 ppb of the PMN substance in surface waters. Since significant environmental exposure is not expected as the substance is not released to surface waters, as described in the PMN, EPA has not determined that the proposed manufacturing, processing, and use of the substance may present an unreasonable risk. EPA has determined, however, that other uses of the substance resulting in release to surface waters may cause significant adverse environmental effects. Based on this information the PMN substance meets the concern criteria at § 721.170(b)(4)(ii).

Recommended testing: EPA has determined that a 90-day subchronic oral study in rats (OPPTS 870.3100) would help characterize the human health effects of the PMN substance. Also the following aquatic toxicity test would help characterize the environmental effects of the PMN substance: a fish acute toxicity study (OPPTS 850.1075 test guideline (public draft)), a daphnid acute toxicity study (OPPTS 850.1010 test guideline (public draft)), and an algal toxicity study (OPPTS 850.5400 test guideline (public draft)). The fish and daphnid tests should be conducted with flow-through methods and measured concentrations. The algal test should be conducted with static methods and measured concentrations, dilution water total organic carbon TOC < 2.0 mg TOC/L dilution water hardness < 180.0 mg/L as CaC03.

CFR citation: 40 CFR 721.648.

PMN Number P-00-0827

Chemical name: 1-propanol, 3-propoxy-.

CAS number: 4161-22-2.

Basis for action: The PMN substance will be used as described in the PMN. EPA has identified health concerns for liver toxicity based on submitted test data and neurotoxicity based on the solvent properties of the substance. Since significant worker exposure is unlikely, when the substance is used with protective equipment as described in the PMN, EPA has not determined that the proposed manufacturing, processing, and use of the substance may present an unreasonable risk. EPA has determined, however, that use of the substance other than as described in the PMN including handling the material without the use of impervious gloves could result in exposures which may cause serious health effects. Based on this information the PMN substance meets the concern criteria at § 721.170(b)(3)(i) and (b)(3)(ii).

Recommended testing: EPA has determined that a 90-day subchronic oral study (OPPTS 870.3100 test guideline), and a prenatal developmental toxicity study (OPPTS 870.3700 test guideline) would help to characterize the health effects of the substance.

CFR citation: 40 CFR 721.525.

PMN Number P-00-0922

Chemical name: Borate(1-), tris(acetato-.kappa.O)hydro-, sodium, (T-4)-.

CAS number: 56553-60-7.

Basis for action: The PMN substance will be used as described in the PMN. Based on structural analogy to other boron compounds, EPA is concerned that toxicity to aquatic organisms may occur at a concentration as low as 300 ppb of the PMN substance in surface waters. Since significant environmental exposure is not expected as the PMN substance is not released to surface water above 300 ppb, as described in the PMN, EPA has not determined that the proposed manufacturing, processing, and use of the substance may present an unreasonable risk. EPA has determined, however, that other uses of the substance resulting in release to surface water above 300 ppb may cause significant adverse environmental effects. Based on this information the PMN substance meets the concern criteria at § 721.170 (b)(4)(ii).

Recommended testing: EPA has determined that a fish acute toxicity study (OPPTS 850.1075 test guideline (public draft)), a daphnid acute toxicity study (OPPTS 850.1010 test guideline (public draft)), and an algal toxicity study (OPPTS 850.5400 test guideline (public draft)) would help to characterize the environmental effects of the PMN substance. The fish and daphnid tests should be conducted with flow-through methods and measured concentrations. The algal test should be conducted with static methods and measured concentrations. Dilution water hardness less than 180.0 mg/L as CaC03.

CFR citation: 40 CFR 721.1880.

PMN Number P-00-0993

Chemical name: (generic) Substituted 6,6'-(1-methylethylidene)bis[3,4-dihydro-3-phenyl-1,3-benzoxazine].

CAS number: Not available.

Basis for action: The PMN substance will be used as resin for structural composites and electronic laminates. EPA has identified health and environmental concerns because the substance is potentially a PBT chemical. Since significant environmental exposure is not expected, as the substance is not released to surface waters, as described in the PMN, EPA has not determined that the proposed manufacturing, processing, and use of the substance may present an unreasonable risk. EPA has determined, however, that other uses of the substance resulting in releases to surface waters may cause significant adverse environmental effects. Based on this information the PMN substance meets the concern criteria at § 721.170(b)(4)(ii).

Recommended testing: EPA has determined that the results of the tiered testing as described in the New Chemicals Program's PBT Category (63 FR 60194; November 4, 1999) would help to characterized the properties of the substance. EPA has also determined that the results of the following aquatic toxicity tests: a fish chronic toxicity study (OPPTS 850.1400 test guideline (public draft)), a daphnid chronic toxicity study (OPPTS 850.1300 test guideline (public draft)), and an algal toxicity study (OPPTS 850.5400 test guideline (public draft)), would help to characterize the environmental effects of the PMN substance. The fish and daphnid tests should be conducted with flow-through methods and measured concentrations, dilution water hardness < 180.0 mg/L as CaC03. The algal test should be conducted with static methods and measured concentrations.

CFR citation: 40 CFR 721.1767

PMN Number P-00-1086

Chemical name: (generic) Silyl amine, potassium salt.

CAS number: Not available.

Basis for action: The PMN substance will be used as described in the PMN. Based on structural analogy to aliphatic amines, EPA is concerned that toxicity to aquatic organisms may occur at a concentration as low as 10 ppb of the PMN substance in surface waters. Since significant environmental exposure is not expected as the PMN substance is not released to surface waters as described in the PMN, EPA has not determined that the proposed manufacturing, processing, and use of the substance may present an unreasonable risk. EPA has determined, however, that other uses of the substance resulting in release to surface waters may cause significant adverse environmental effects. Based on this information the PMN substance meets the concern criteria at § 721.170 (b)(4)(ii).

Recommended testing: EPA has determined that a fish acute toxicity study (OPPTS 850.1075 test guideline (public draft)), a daphnid acute toxicity study (OPPTS 850.1010 test guideline (public draft)), and an algal toxicity study (OPPTS 850.5400 test guideline (public draft)) would help to characterize the environmental effects of the PMN substance. The fish and daphnid tests should be conducted with flow-through methods and measured concentrations. The algal test should be conducted with static methods and measured concentrations, dilution water total organic carbon TOC < 2.0 mg TOC/L dilution water hardness < 180.0 mg/L as CaC03.

CFR citation: 40 CFR 721.638.

PMN Number P-00-1087

Chemical name: (generic) Di-alkyl borane.

CAS number: Not available.

Basis for action: The PMN substance will be used as described in the PMN. Based on structural analogy to organoborane compounds, EPA is concerned that toxicity to aquatic organisms may occur at a concentration as low as 200 ppb of the PMN substance in surface waters. Since significant environmental exposure is not expected as the PMN substance is not released to surface water above 200 ppb, as described in the PMN, EPA has not determined that the proposed manufacturing, processing, and use of the substance may present an unreasonable risk. EPA has determined, however, that other uses of the substance resulting in release to surface waters above 200 ppb may cause significant adverse environmental effects. Based on this information the PMN substance meets the concern criteria at § 721.170(b)(4)(ii).

Recommended testing: EPA has determined that a fish acute toxicity study (OPPTS 850.1075 test guideline (public draft)), a daphnid acute toxicity study (OPPTS 850.1010 test guideline (public draft)), and an algal toxicity study (OPPTS 850.5400 test guideline (public draft)) would help to characterize the environmental effects of the PMN substance. The fish and daphnid tests should be conducted with flow-through methods and measured concentration. The algal test should be conducted with static methods and measured concentration. Dilution water hardness < 180 mg/L as CaC03.

CFR citation: 40 CFR 721.1852.

PMN Number P-00-1089

Chemical name: (generic) Alkali metal alkyl borohydride.

CAS number: Not available.

Basis for action: The PMN substance will be used as described in the PMN. Based on structural analogy to organoborane compounds, EPA is concerned that toxicity to aquatic organisms may occur at a concentration as low as 300 ppb of the PMN substance in surface waters. Since significant environmental exposure is not expected, as the substance is not released to surface waters as described in the PMN, EPA has not determined that the proposed manufacturing, processing, and use of the substance may present an unreasonable risk. EPA has determined, however, that other uses of the substance resulting in release to surface waters may cause significant adverse environmental effects. Based on this information the PMN substance meets the concern criteria at § 721.170(b)(4)(ii).

Recommended testing: EPA has determined that a fish acute toxicity study (OPPTS 850.1075 test guideline (public draft)), a daphnid acute toxicity study (OPPTS 850.1010 test guideline (public draft)), and an algal toxicity study (OPPTS 850.5400 test guideline (public draft)) would help to characterize the environmental effects of the PMN substance. The fish and daphnid tests should be conducted with flow-through methods and measured concentration. The algal test should be conducted with static methods and measured concentration. Dilution water hardness < 180 mg/L as CaC03.

CFR citation: 40 CFR 721.1878.

PMN Number P-00-1132

Chemical name: (generic) Siloxanes and silicones, aminoalkyl, fluorooctyl, hydroxy-terminated salt.

CAS number: Not available.

Basis for action: The PMN substance will be used in anti-graffiti systems as described in the PMN. Based on structural analogy to perfluoro alkyl polycationic polymers, EPA has identified health concerns for lung toxicity from inhalation exposure. Since significant worker exposure is unlikely when used as described in the PMN, EPA has not determined that the proposed manufacturing, processing, and use of the substance may cause significant adverse effects. EPA has determined, however, that use of the PMN substance other than as described in the PMN could result in exposures which may cause serious health effects. In addition, EPA has identified health concerns for potential incineration products for the PMN substance based on analogy to perfluorinated octane sulfonate (PFOS) and perfluorinated octanoic acid (PFOA). These incineration products are PBT. Based on this information, the PMN substance meets the concern criteria at § 721.170(b)(3)(ii).

Recommended testing: EPA has determined that a 90-day inhalation toxicity study in rats with a 60-day holding period (OPPTS 870.3465 test guideline) would help characterize the human health effects of the PMN substance. Special attention should be given to histopathology (inflammation and cell proliferation) of the lung tissues and to various parameters of the bronchoalveolar lavage fluid (BALF), e.g., marker enzyme activities, total protein content, total cell count, cell differential, and cell viability. It is not necessary to look at internal organs. The Agency has also determined that the following tests would help characterize fate and ecotoxicity of the PMN substance: A Decomposition Kinetics by Thermogravimeter (ASTM E1641), a Compositional Analysis by Thermogravimeter (ASTM E1131), and a Laboratory “Burn” test - protocol to be agreed upon by EPA and the Company. The purpose of this test is to determine the disposition of the material and to identify degradates, especially the presence of components that can lead to the formation of perfluofo alkyl carboxylic acid after burning or incineration.

CFR citation: 40 CFR 721.9502.

PMN Number P-00-1195

Chemical name: Xanthylium, 9-(2-(ethoxycarbonyl)phenyl)-3,6-bis(ethylamino)-2,7- dimethyl-, ethyl sulfate.

CAS number: 26694-69-9.

Basis for action: The PMN substance will be used as a dye for complex basic dye pigment manufacture. Based on submitted test data for an analog, EPA has identified health concerns for toxic effects to the liver and heart. Since significant worker exposure is unlikely when used as described in the PMN, EPA has not determined that the proposed manufacturing, processing, and use of the substance may present an unreasonable risk. EPA has determined, however, that domestic manufacture or use of the PMN substance other than as an intermediate could result in serious health effects. Also, based on structural analogy to cationic dyes, EPA is concerned that toxicity to aquatic organisms may occur at a concentration as low as 2 ppb of the PMN substance in surface waters. Since significant environmental exposure is not expected when the PMN substance is used as described in the PMN, EPA has not determined that the proposed use of the substance may present an unreasonable risk. EPA has determined, however, that use of the substance other than as described in the PMN may cause significant adverse environmental effects. Based on this information the PMN substance meets the concern criteria at § 721.170(b)(3)(ii) and (b)(4)(ii).

Recommended testing: EPA has determined that an acute oral toxicity study (40 CFR part 799.9110(d)(1)(i)(A)), a Salmonella typhimurium reverse mutation assay (OPPTS 870.5100 test guideline), a 28-day oral toxicity study Organization for Economic Cooperation and Development (OECD) guideline no. 407 or OPPTS 870.3050 test guideline), and an in vivo mammalian cytogenetics test by the intraperitoneal (i.p.) route: micronucleus assay (OPPTS 870.5395 test guideline) would help to characterize the human health effects of the PMN substance. EPA has also determined that a fish acute toxicity study (OPPTS 850.1075 test guideline (public draft)), a daphnid acute toxicity study (OPPTS 850.1010 test guideline (public draft)), and an algal acute toxicity study (OPPTS 850.5400 test guideline (public draft)) would help to characterize the environmental effects of the PMN substance. The fish and daphnid tests should be conducted with flow-through methods and measured concentration. The algal test should be conducted with static methods and measured concentration. Dilution water hardness < 180 mg/L as CaC03.

CFR citation: 40 CFR 721.2465.

PMN Number P-01-0432

Chemical name: (generic) Bis heterocyclic phenylene derivative.

CAS number: Not available.

Basis for action: The PMN substance will be used as a reactive modifier for polymeric substances. EPA has identified health concerns for neurotoxicity, developmental toxicity, mutagenicity, carcinogenicity, lung and liver toxicity, and sensitization based on test data. Since significant worker exposure is unlikely because there would not be significant inhalation exposure for the use identified in the PMN, EPA has not determined that the proposed manufacturing, processing, and use of the substance as described in the PMN present an unreasonable risk. EPA has determined, however, that an increase in production volume over that described in the PMN could result in significant exposure to human health. Based on this information the PMN substance meets the concern criteria at § 721.170(b)(3)(ii) and (b)(1)(i)(A).

Recommended testing: EPA has determined that a mouse micronucleus test by the i.p. route (OPPTS 870.5395 test guideline) and a 28-day oral toxicity in rats OECD guideline number 407 or (OPPTS 870.3050) with a Functional Observational Battery (FOB) would help to characterize the health effects of the substance. If the above tests indicate a health concern, then the following tests may be necessary to qualify the potential health effects: a 90-day subchronic oral study in rats (OPPT 870.3100 test guideline), a prenatal development toxicity study by oral route in two species (OPPTS 870.3700 test guideline), a reproduction and fertility effects (OPPTS 870.3800 test guideline), and a carcinogenicity study (OPPTS 870.4200 test guideline).

CFR citation: 40 CFR 721.5925.

IV. Objectives and Rationale of the Rule

During review of the PMNs submitted for the chemical substances that are subject to this SNUR, EPA concluded that for 3 of the 62 substances, regulation was warranted under section 5(e) of TSCA, pending the development of information sufficient to make reasoned evaluations of the health or environmental effects of the substances. The basis for such findings is outlined in Unit III. Based on these findings, TSCA section 5(e) consent orders requiring the use of appropriate exposure controls were negotiated with the PMN submitters; the SNUR provisions for these substances designated herein are consistent with the provisions of the TSCA section 5(e) consent orders.

In the other 59 cases for which the proposed uses are not regulated under a TSCA section 5(e) consent order, EPA determined that one or more of the criteria of concern established at 40 CFR 721.170 were met.

EPA is issuing this SNUR for specific chemical substances which have undergone premanufacture review to ensure that:

1. EPA will receive notice of any company's intent to manufacture, import, or process a listed chemical substance for a significant new use before that activity begins.

2. EPA will have an opportunity to review and evaluate data submitted in a SNUR notice before the notice submitter begins manufacturing, importing, or processing a listed chemical substance for a significant new use.

3. When necessary, to prevent unreasonable risks, EPA will be able to regulate prospective manufacturers, importers, or processors of a listed chemical substance before a significant new use of that substance occurs.

4. All manufacturers, importers, and processors of the same chemical substance which is subject to a TSCA section 5(e) consent order are subject to similar requirements.

Issuance of a SNUR for a chemical substance does not signify that the substance is listed on the TSCA Inventory. Manufacturers, importers, and processors are responsible for ensuring that a new chemical substance subject to a final SNUR is listed on the TSCA Inventory.

V. Direct Final Procedures

EPA is issuing these SNURs as a direct final rule, as described in 40 CFR 721.160(c)(3) and 721.170(d)(4). In accordance with 40 CFR 721.160(c)(3)(ii), this rule will be effective May 27, 2003, unless EPA receives a written notice by April 28, 2003 that someone wishes to make adverse or critical comments on EPA's action. If EPA receives such a notice, EPA will publish a document to withdraw the direct final SNUR for the specific substance to which the adverse or critical comments apply. EPA will then propose a SNUR for the specific substance providing a 30-day comment period.

This action establishes SNURs for a number of chemical substances. Any person who submits a notice of intent to submit adverse or critical comments must identify the substance and the new use to which it applies. EPA will not withdraw a SNUR for a substance not identified in a notice.

VI. Test Data and Other Information

EPA recognizes that section 5 of TSCA does not require developing any particular test data before submission of a SNUN. Persons are required only to submit test data in their possession or control and to describe any other data known to or reasonably ascertainable by them. In cases where a TSCA section 5(e) consent order requires or recommends certain testing, Unit III. lists those recommended tests.

However, EPA has established production limits in the TSCA section 5(e) consent orders for several of the substances regulated under this rule, in view of the lack of data on the potential health and environmental risks that may be posed by the significant new uses or increased exposure to the substances. These production limits cannot be exceeded unless the PMN submitter first submits the results of toxicity tests that would permit a reasoned evaluation of the potential risks posed by these substances. Under recent consent orders, each PMN submitter is required to submit each study at least 14 weeks (earlier consent orders required submissions at least 12 weeks) before reaching the specified production limit. Listings of the tests specified in the TSCA section 5(e) consent orders are included in Unit III. The SNURs contain the same production volume limits as the consent orders. Exceeding these production limits is defined as a significant new use.

The recommended studies may not be the only means of addressing the potential risks of the substance. However, SNUNs submitted for significant new uses without any test data may increase the likelihood that EPA will take action under TSCA section 5(e), particularly if satisfactory test results have not been obtained from a prior submitter. EPA recommends that potential SNUN submitters contact EPA early enough so that they will be able to conduct the appropriate tests.

SNUN submitters should be aware that EPA will be better able to evaluate SNUNs which provide detailed information on:

1. Human exposure and environmental release that may result from the significant new use of the chemical substances.

2. Potential benefits of the substances.

3. Information on risks posed by the substances compared to risks posed by potential substitutes.

VII. Procedural Determinations

EPA is establishing through this rule some significant new uses which have been claimed as CBI subject to Agency confidentiality regulations at 40 CFR part 2. EPA is required to keep this information confidential to protect the CBI of the original PMN submitter. EPA promulgated a procedure to deal with the situation where a specific significant new use is CBI. This procedure appears in 40 CFR 721.1725(b)(1) and is similar to that in § 721.11 for situations where the chemical identity of the substance subject to a SNUR is CBI. This procedure is cross-referenced in each of these SNURs.

A manufacturer or importer may request EPA to determine whether a proposed use would be a significant new use under this rule. Under the procedure incorporated from § 721.1725(b)(1), a manufacturer or importer must show that it has a bona fide intent to manufacture or import the substance and must identify the specific use for which it intends to manufacture or import the substance. If EPA concludes that the person has shown a bona fide intent to manufacture or import the substance, EPA will tell the person whether the use identified in the bona fide submission would be a significant new use under the rule. Since most of the chemical identities of the substances subject to these SNURs are also CBI, manufacturers and processors can combine the bona fide submission under the procedure in § 721.1725(b)(1) with that under § 721.11 into a single step.

If a manufacturer or importer is told that the production volume identified in the bona fide submission would not be a significant new use, i.e. it is below the level that would be a significant new use, that person can manufacture or import the substance as long as the aggregate amount does not exceed that identified in the bona fide submission to EPA. If the person later intends to exceed that volume, a new bona fide submission would be necessary to determine whether that higher volume would be a significant new use. EPA is considering whether to adopt a special procedure for use when CBI production volume is designated as a significant new use. Under such a procedure, a person showing a bona fide intent to manufacture or import the substance, under the procedure described in § 721.11, would automatically be informed of the production volume that would be a significant new use. Thus, the person would not have to make multiple bona fide submissions to EPA for the same substance to remain in compliance with the SNUR, as could be the case under the procedures in § 721.1725(b)(1).

VIII. Applicability of Rule to Uses Occurring Before Effective Date of the Final Rule

To establish a significant “new” use, EPA must determine that the use is not ongoing. The chemical substances subject to this rule have recently undergone premanufacture review. TSCA section 5(e) consent orders have been issued for 3 substances and notice submitters are prohibited by the TSCA section 5(e) consent orders from undertaking activities which EPA is designating as significant new uses. In cases where EPA has not received an NOC and the substance has not been added to the Inventory, no other person may commence such activities without first submitting a PMN. For substances for which an NOC has not been submitted at this time, EPA has concluded that the uses are not ongoing. However, EPA recognizes in cases when chemical substances identified in this SNUR are added to the Inventory prior to the effective date of the rule, the substances may be manufactured, imported, or processed by other persons for a significant new use as defined in this rule before the effective date of the rule. However, 41 of the 62 substances contained in this rule have CBI chemical identities, and since EPA has received a limited number of post-PMN bona fide submissions, the Agency believes that it is highly unlikely that any of the significant new uses described in the following regulatory text are ongoing.

As discussed in the Federal Register of April 24, 1990, EPA has decided that the intent of section 5(a)(1)(B) of TSCA is best served by designating a use as a significant new use as of the date of publication rather than as of the effective date of the rule. Thus, persons who begin commercial manufacture, import, or processing of the substances regulated through this SNUR will have to cease any such activity before the effective date of this rule. To resume their activities, these persons would have to comply with all applicable SNUR notice requirements and wait until the notice review period, including all extensions, expires.

EPA has promulgated provisions to allow persons to comply with this SNUR before the effective date. If a person were to meet the conditions of advance compliance under § 721.45(h), the person would be considered to have met the requirements of the final SNUR for those activities. If persons who begin commercial manufacture, import, or processing of the substance between publication and the effective date of the SNUR do not meet the conditions of advance compliance, they must cease that activity before the effective date of the rule. To resume their activities, these persons would have to comply with all applicable SNUR notice requirements and wait until the notice review period, including all extensions, expires.

IX. Economic Analysis

EPA has evaluated the potential costs of establishing SNUN requirements for potential manufacturers, importers, and processors of the chemical substance subject to this rule. EPA's complete economic analysis is available in the official public docket.

X. Statutory and Executive Order Reviews

Under Executive Order 12866, entitled Regulatory Planning and Review (58 FR 51735, October 4, 1993), the Office of Management and Budget (OMB) has determined that proposed or final SNURs are not a “significant regulatory action” subject to review by OMB, because they do not meet the criteria in section 3(f) of the Executive Order.

According to the Paperwork Reduction Act (PRA), 44 U.S.C. 3501 et seq., an Agency may not conduct or sponsor, and a person is not required to respond to a collection of information that requires OMB approval under the PRA, unless it has been approved by OMB and displays a currently valid OMB control number. The OMB control numbers for EPA's regulations in title 40 of the CFR, after appearing in the Federal Register, are listed in 40 CFR part 9, and included on the related collection instrument or form, if applicable.

The information collection requirements related to this action have already been approved by OMB pursuant to the PRA under OMB control number 2070-0012 (EPA ICR No. 574). This action does not impose any burden requiring additional OMB approval. If an entity were to submit a SNUN to the Agency, the annual burden is estimated to average between 30 and 170 hours per response. This burden estimate includes the time needed to review instructions, search existing data sources, gather and maintain the data needed, and complete, review, and submit the required SNUN.

Send any comments about the accuracy of the burden estimate, and any suggested methods for minimizing respondent burden, including through the use of automated collection techniques, to the Director, Collection Strategies Division, Office of Environmental Information (2822T), Environmental Protection Agency, 1200 Pennsylvania Ave., NW., Washington, DC 20460-0001. Please remember to include the OMB control number in any correspondence, but do not submit any completed forms to this address.

Pursuant to section 605(b) of the Regulatory Flexibility Act (RFA) (5 U.S.C. 601 et seq.), the Agency hereby certifies that promulgation of this SNUR will not have a significant adverse economic impact on a substantial number of small entities. The rationale supporting this conclusion is as follows. A SNUR applies to any person (including small or large entities) who intends to engage in any activity described in the rule as a “significant new use.” By definition of the word “new,” and based on all information currently available to EPA, it appears that no small or large entities presently engage in such activity. Since a SNUR only requires that any person who intends to engage in such activity in the future must first notify EPA by submitting a SNUN, no economic impact will even occur until someone decides to engage in those activities. Although some small entities may decide to conduct such activities in the future, EPA cannot presently determine how many, if any, there may be. However, EPA's experience to date is that, in response to the promulgation of over 900 SNURs, the Agency has received fewer than 25 SNUNs. Of those SNUNs submitted, none appear to be from small entities in response to any SNUR. In addition, the estimated reporting cost for submission of a SNUN (see Unit IX.), are minimal regardless of the size of the firm. Therefore, EPA believes that the potential economic impact of complying with this SNUR are not expected to be significant or adversely impact a substantial number of small entities. In a SNUR that published on June 2, 1997 (62 FR 29684) (FRL-5597-1), the Agency presented it's general determination that proposed and final SNURs are not expected to have a significant economic impact on a substantial number of small entities, which was provided to the Chief Counsel for Advocacy of the Small Business Administration.

Based on EPA's experience with proposing and finalizing SNURs, State, local, and tribal governments have not been impacted by these rulemakings, and EPA does not have any reasons to believe that any State, local, or tribal government will be impacted by this rulemaking. As such, EPA has determined that this regulatory action does not impose any enforceable duty, contain any unfunded mandate, or otherwise have any affect on small governments subject to the requirements of sections 202, 203, 204, or 205 of the Unfunded Mandates Reform Act of 1995 (UMRA) (Public Law 104-4).

This action will not have a substantial direct effect on States, on the relationship between the national government and the States, or on the distribution of power and responsibilities among the various levels of government, as specified in Executive Order 13132, entitled Federalism (64 FR 43255, August 10, 1999).

This rule does not have tribal implications because it is not expected to have substantial direct effects on Indian Tribes. This does not significantly or uniquely affect the communities of Indian tribal governments, nor does it involve or impose any requirements that affect Indian Tribes. Accordingly, the requirements of Executive Order 13175, entitled Consultation and Coordination with Indian Tribal Governments (65 FR 67249, November 6, 2000), do not apply to this rule.

This action is not subject to Executive Order 13045, entitled Protection of Children from Environmental Health Risks and Safety Risks (62 FR 19885, April 23, 1997), because this is not an economically significant regulatory action as defined by Executive Order 12866, and this action does not address environmental health or safety risks disproportionately affecting children.

This rule is not subject to Executive Order 13211, entitled Actions Concerning Regulations That Significantly Affect Energy Supply, Distribution, or Use (66 FR 28355, May 22, 2001), because this action is not expected to affect energy supply, distribution, or use.

In addition, since this action does not involve any technical standards, section 12(d) of the National Technology Transfer and Advancement Act of 1995 (NTTAA), Public Law 104-113, section 12(d) (15 U.S.C. 272 note), does not apply to this action.

This action does not entail special considerations of environmental justice related issues as delineated by Executive Order 12898, entitled Federal Actions to Address Environmental Justice in Minority Populations and Low-Income Populations (59 FR 7629, February 16, 1994).

EPA has complied with Executive Order 12630, entitled Governmental Actions and Interference with Constitutionally Protected Property Rights (53 FR 8859, March 15, 1988), by examining the takings implications of this rule in accordance with the “Attorney General's Supplemental Guidelines for the Evaluation of Risk and Avoidance of Unanticipated Takings” issued under the Executive Order.

In issuing this rule, EPA has taken the necessary steps to eliminate drafting errors and ambiguity, minimize potential litigation, and provide a clear legal standard for affected conduct, as required by section 3 of Executive Order 12988, entitled Civil Justice Reform (61 FR 4729, February 7, 1996).

XI. Congressional Review Act

The Congressional Review Act, 5 U.S.C. 801 et seq., as added by the Small Business Regulatory Enforcement Fairness Act of 1996, generally provides that before a final rule may take effect, the Agency promulgating it must submit a final rule report, which includes a copy of the final rule, to each House of the Congress and to the Comptroller General of the United States. EPA will submit a report containing this final rule and other required information to the U.S. Senate, the U.S. House of Representatives, and the Comptroller General of the United States prior to publication of the final rule in the Federal Register. This final rule is not a “major rule” as defined by 5 U.S.C. 804(2).

List of Subjects in 40 CFR Part 721

Environmental protection, Chemicals, Hazardous substances, Reporting and recordkeeping requirements.

Dated: March 17, 2003.
Charles M. Auer,
Director, Office of Pollution Prevention and Toxics.

Therefore, 40 CFR part 721 is amended as follows:

PART 721—[AMENDED]

1. The authority citation for part 721 continues to read as follows:

Authority: 15 U.S.C. 2604, 2607, and 2625(c).

2. By adding new § 721.321 to subpart E to read as follows:

§ 721.321 Substituted acrylamides and acrylic acid copolymer (generic).

(a) Chemical substance and significant new uses subject to reporting. (1) The chemical substance identified generically as substituted acrylamides and acrylic acid copolymer (PMN P-00-0490) is subject to reporting under this section for the significant new use described in paragraph (a)(2) of this section.

(2) The significant new uses are:

(i) Industrial, commercial, and consumer activities. Requirements as specified in § 721.80 (f), (v)(1), and (x)(1).

(ii) [Reserved]

(b) Specific requirements. The provisions of subpart A of this part apply to this section except as modified by this paragraph.

(1) Recordkeeping. Recordkeeping requirements as specified in § 721.125 (a), (b), (c), and (i) are applicable to manufacturers, importers, and processors of this substance.

(2) Limitations or revocation of certain notification requirements. The provisions of § 721.185 apply to this section.

3. By adding new § 721.338 to subpart E to read as follows:

§ 721.338 Salt of an acrylate copolymer (generic).

(a) Chemical substance and significant new uses subject to reporting. (1) The chemical substances identified generically as salt of an acrylate copolymer (PMNs P-00-0333 and P-00-0334) are subject to reporting under this section for the significant new use described in paragraph (a)(2) of this section.

(2) The significant new uses are:

(i) Industrial, commercial, and consumer activities. Requirements as specified in § 721.80 (v)(2), (w)(2), and (x)(2).

(ii) [Reserved]

(b) Specific requirements. The provisions of subpart A of this part apply to this section except as modified by this paragraph.

(1) Recordkeeping. Recordkeeping requirements as specified in § 721.125 (a), (b), (c), and (i) are applicable to manufacturers, importers, and processors of this substance.

(2) Limitations or revocation of certain notification requirements. The provisions of § 721.185 apply to this section.

4. By adding new § 721.463 to subpart E to read as follows:

§ 721.463 Acrylate of polymer based on isophorone diisocyanate (generic).

(a) Chemical substance and significant new uses subject to reporting. (1) The chemical substance identified generically as acrylate of polymer based on isophorone diisocyanate (PMN P-00-0626) is subject to reporting under this section for the significant new use described in paragraph (a)(2) of this section.

(2) The significant new uses are:

(i) Release to water. Requirements as specified in § 721.90 (a)(4), (b)(4), (c)(4) (N=3 ppb).

(ii) [Reserved]

(b) Specific requirements. The provisions of subpart A of this part apply to this section except as modified by this paragraph.

(1) Recordkeeping. Recordkeeping requirements as specified in § 721.125 (a), (b), (c), and (k) are applicable to manufacturers, importers, and processors of this substance.

(2) Limitations or revocation of certain notification requirements. The provisions of § 721.185 apply to this section.

5. By adding new § 721.465 to subpart E to read as follows:

§ 721.465 Alkoxylated alkylpolyol acrylates, adduct with alkylamine (generic).

(a) Chemical substance and significant new uses subject to reporting. (1) The chemical substances identified generically as alkoxylated alkylpolyol acrylates, adduct with alkylamine (PMNs P-98-0082, P-98-0083, and P-98-0084 are subject to reporting under this section for the significant new use described in paragraph (a)(2) of this section.

(2) The significant new uses are:

(i) Release to water. Requirements as specified in § 721.90 (a)(1), (b)(1), and (c)(1).

(ii) [Reserved]

(b) Specific requirements. The provisions of subpart A of this part apply to this section except as modified by this paragraph.

(1) Recordkeeping. Recordkeeping requirements as specified in § 721.125 (a), (b), (c), and (k) are applicable to manufacturers, importers, and processors of this substance.

(2) Limitations or revocation of certain notification requirements. The provisions of § 721.185 apply to this section.

6. By adding new § 721.522 to subpart E to read as follows:

§ 721.522 Oxirane, methyl-, polymer with oxirane, mono(3,5,5,-trimethylhexyl) ether.

(a) Chemical substance and significant new uses subject to reporting. (1) The chemical substance identified as oxirane, methyl-, polymer with oxirane, mono(3,5,5,-trimethylhexyl) ether (PMN P-99-0669; CAS No. 204336-40-3) is subject to reporting under this section for the significant new use described in paragraph (a)(2) of this section.

(2) The significant new uses are:

(i) Industrial, commercial, and consumer activities. Requirements as specified in § 721.80(j).

(ii) [Reserved]

(b) Specific requirements. The provisions of subpart A of this part apply to this section except as modified by this paragraph.

(1) Recordkeeping. Recordkeeping requirements as specified in § 721.125 (a), (b), (c), and (i) are applicable to manufacturers, importers, and processors of this substance.

(2) Limitations or revocation of certain notification requirements. The provisions of § 721.185 apply to this section.

(3) Determining whether a specific use is subject to this section. The provisions of § 721.1725(b)(1) apply to this section.

7. By adding new § 721.525 to subpart E to read as follows:

§ 721.525 1-propanol, 3-propoxy-.

(a) Chemical substance and significant new uses subject to reporting. (1) The chemical substance identified as 1-propanol, 3-propoxy- (PMN P-00-0827; CAS No. 4161-22-2) is subject to reporting under this section for the significant new use described in paragraph (a)(2) of this section.

(2) The significant new uses are:

(i) Protection in the workplace. Requirements as specified in § 721.63 (a)(2)(i) and (a)(3).

(ii) Industrial, commercial, and consumer activities. Requirements as specified in § 721.80(o) and (j).

(b) Specific requirements. The provisions of subpart A of this part apply to this section except as modified by this paragraph.

(1) Recordkeeping. Recordkeeping requirements as specified in § 721.125 (a), (b), (c), (d), and (i) are applicable to manufacturers, importers, and processors of this substance.

(2) Limitations or revocation of certain notification requirements. The provisions of § 721.185 apply to this section.

(3) Determining whether a specific use is subject to this section. The provisions of § 721.1725(b)(1) apply to this section.

8. By adding new § 721.532 to subpart E to read as follows:

§ 721.532 Substituted hydroxyalkane acetate (generic).

(a) Chemical substance and significant new uses subject to reporting. (1) The chemical substance identified generically as substituted hydroxyalkane acetate (PMN P-00-0618) is subject to reporting under this section for the significant new use described in paragraph (a)(2) of this section.

(2) The significant new uses are:

(i) Industrial, commercial, and consumer activities. Requirements as specified in § 721.80 (j).

(ii) [Reserved]

(b) Specific requirements. The provisions of subpart A of this part apply to this section except as modified by this paragraph.

(1) Recordkeeping. Recordkeeping requirements as specified in § 721.125 (a), (b), (c), and (i) are applicable to manufacturers, importers, and processors of this substance.

(2) Limitations or revocation of certain notification requirements. The provisions of § 721.185 apply to this section.

(3) Determining whether a specific use is subject to this section. The provisions of § 721.1725(b)(1) apply to this section.

9. By adding new § 721.533 to subpart E to read as follows:

§ 721.533 Propane, 1,1,1,3,3-pentachloro-.

(a) Chemical substance and significant new uses subject to reporting. (1) The chemical substance identified as propane, 1,1,1,3,3-pentachloro- (PMN P-99-1327; CAS No. 23153-23-3) is subject to reporting under this section for the significant new use described in paragraph (a)(2) of this section.

(2) The significant new uses are:

(i) Industrial, commercial, and consumer activities. Requirements as specified in § 721.80(g).

(ii) [Reserved]

(b) Specific requirements. The provisions of subpart A of this part apply to this section except as modified by this paragraph.

(1) Recordkeeping. Recordkeeping requirements as specified in § 721.125 (a), (b), (c), and (i) are applicable to manufacturers, importers, and processors of this substance.

(2) Limitations or revocation of certain notification requirements. The provisions of § 721.185 apply to this section.

10. By adding new § 721.638 to subpart E to read as follows:

§ 721.638 Silyl amine, potassium salt (generic).

(a) Chemical substance and significant new uses subject to reporting. (1) The chemical substance identified generically as silyl amine, potassium salt (PMN P-00-1086) is subject to reporting under this section for the significant new use described in paragraph (a)(2) of this section.

(2) The significant new uses are:

(i) Release to water. Requirements as specified in § 721.90 (a)(1), (b)(1), and (c)(1).

(ii) [Reserved]

(b) Specific requirements. The provisions of subpart A of this part apply to this section except as modified by this paragraph.

(1) Recordkeeping. Recordkeeping requirements as specified in § 721.125 (a), (b), (c), and (k) are applicable to manufacturers, importers, and processors of this substance.

(2) Limitation or revocation of certain notification requirements. The provisions of § 721.185 apply to this section.

11. By adding new § 721.648 to subpart E to read as follows:

§ 721.648 Alkyl dialkylamino phenylsulfonyl alkenoate (generic).

(a) Chemical substance and significant new uses subject to reporting. (1) The chemical substance identified generically as alkyl dialkylamino phenylsulfonyl alkenoate (PMN P-00-0816) is subject to reporting under this section for the significant new use described in paragraph (a)(2) of this section.

(2) The significant new uses are:

(i) Industrial, commercial, and consumer activities. Requirements as specified in § 721.80(f).

(ii) Release to water. Requirements as specified in § 721.90 (a)(1), (b)(1), and (c)(1).

(b) Specific requirements. The provisions of subpart A of this part apply to this section except as modified by this paragraph.

(1) Recordkeeping. Recordkeeping requirements as specified in § 721.125 (a), (b), (c), (i), and (k) are applicable to manufacturers, importers, and processors of this substance.

(2) Limitations or revocation of certain notification requirements. The provisions of § 721.185 apply to this section.

12. By adding new § 721.843 to subpart E to read as follows:

§ 721.843 Substituted phenylazophenylazo phenol (generic).

(a) Chemical substance and significant new uses subject to reporting. (1) The chemical substance identified generically as substituted phenylazophenylazo, phenol (PMN P-00-0420) is subject to reporting under this section for the significant new use described in paragraph (a)(2) of this section.

(2) The significant new uses are:

(i) Release to water. Requirements as specified in § 721.90 (a)(1), (b)(1), and (c)(1).

(ii) [Reserved]

(b) Specific requirements. The provisions of subpart A of this part apply to this section except as modified by this paragraph.

(1) Recordkeeping. Recordkeeping requirements as specified in § 721.125 (a), (b), (c), and (k) are applicable to manufacturers, importers, and processors of this substance.

(2) Limitations or revocation of certain notification requirements. The provisions of § 721.185 apply to this section.

13. By adding new § 721.910 to subpart E to read as follows:

§ 721.910 Propanetriol polyalkylenepolyolamine aryl aldimine (generic).

(a) Chemical substance and significant new uses subject to reporting. (1) The chemical substance identified generically as propanetriol polyalkylenepolyolamine aryl aldimine (PMN P-99-0873) is subject to reporting under this section for the significant new use described in paragraph (a)(2) of this section.

(2) The significant new uses are:

(i) Release to water. Requirements as specified in § 721.90 (a)(1), (b)(1), and (c)(1).

(ii) [Reserved]

(b) Specific requirements. The provisions of subpart A of this part apply to this section except as modified by this paragraph.

(1) Recordkeeping. Recordkeeping requirements as specified in § 721.125 (a), (b), (c), and (k) are applicable to manufacturers, importers, and processors of this substance.

(2) Limitations or revocation of certain notification requirements. The provisions of § 721.185 apply to this section.

14. By adding new § 721.984 to subpart E to read as follows:

§ 721.984 Amino-hydroxy sulfonaphthylazo-disubstituted phenyl azo benzene carboxylate salt (generic).

(a) Chemical substance and significant new uses subject to reporting. (1) The chemical substance identified generically as amino-hydroxy sulfonaphthylazo-disubstituted phenyl azo benzene carboxylate salt (PMN P-00-0351) is subject to reporting under this section for the significant new use described in paragraph (a)(2) of this section.

(2) The significant new uses are:

(i) Industrial, commercial, and consumer activities. Requirements as specified in § 721.80 (v)(2), (w)(2), (x)(2).

(ii) [Reserved]

(b) Specific requirements. The provisions of subpart A of this part apply to this section except as modified by this paragraph.

(1) Recordkeeping. Recordkeeping requirements as specified in § 721.125 (a), (b), (c), and (i) are applicable to manufacturers, importers, and processors of this substance.

(2) Limitations or revocation of certain notification requirements. The provisions of § 721.185 apply to this section.

15. By adding new § 721.990 to subpart E to read as follows:

§ 721.990 1,4-Benzedicarboxylic acid, dimethyl ester, polymer with 1,4 - butanediol, cyclized.

(a) Chemical substance and significant new uses subject to reporting. (1) The chemical substance identified as 1,4-benzedicarboxylic acid, dimethyl ester, polymer with 1,4 - butanediol, cyclized (PMN P-00-0789; CAS No. 263244-54-8) is subject to reporting under this section for the significant new use described in paragraph (a)(2) of this section.

(2) The significant new uses are:

(i) Release to water. Requirements as specified in § 721.90 (a)(1), (b)(1), and (c)(1).

(ii) [Reserved]

(b) Specific requirements. The provisions of subpart A of this part apply to this section except as modified by this paragraph.

(1) Recordkeeping. Recordkeeping requirements as specified in § 721.125 (a), (b), (c), and (k) are applicable to manufacturers, importers, and processors of this substance.

(2) Limitations or revocation of certain notification requirements. The provisions of § 721.185 apply to this section.

16. By adding new § 721.1767 to subpart E to read as follows:

§ 721.1767 Substituted 6,6'-(1-methylethylidene)bis[3,4-dihydro-3-phenyl-1,3-benzoxazine] (generic).

(a) Chemical substance and significant new uses subject to reporting. (1) The chemical substance identified generically as substituted 6,6'-(1-methylethylidene)bis[3,4-dihydro-3-phenyl-1,3-benzoxazine] (PMN P-00-0993) is subject to reporting under this section for the significant new uses described in paragraph (a)(2) of this section.

(2) The significant new uses are:

(i) Release to water. Requirements as specified in § 721.90 (a)(1), (b)(1), and (c)(1).

(ii) [Reserved]

(b) Specific requirements. The provisions of subpart A of this part apply to this section except as modified by this paragraph.

(1) Recordkeeping. Recordkeeping requirements as specified in § 721.125 (a), (b), (c), and (k) are applicable to manufacturers, importers, and processors of this substance.

(2) Limitations or revocation of certain notification requirements. The provisions of § 721.185 apply to this section.

17. By adding new § 721.1852 to subpart E to read as follows:

§ 721.1852 Di-alkyl borane (generic).

(a) Chemical substance and significant new uses subject to reporting. (1) The chemical substance identified generically as di-alkyl borane (PMN P-00-1087) is subject to reporting under this section for the significant new use described in paragraph (a)(2) of this section.

(2) The significant new uses are:

(i) Release to water. Requirements as specified in § 721.90 (a)(4), (b)(4), and (c)(4) (N=200 ppb).

(ii) [Reserved]

(b) Specific requirements. The provisions of subpart A of this part apply to this section except as modified by this paragraph.

(1) Recordkeeping. Recordkeeping requirements as specified in § 721.125 (a), (b), (c), (i) and (k) are applicable to manufacturers, importers, and processors of this substance.

(2) Limitations or revocation of certain notification requirements. The provisions of § 721.185 apply to this section.

18. By adding new § 721.1878 to subpart E to read as follows:

§ 721.1878 Alkali metal alkyl borohydride (generic).

(a) Chemical substance and significant new uses subject to reporting. (1) The chemical substance identified generically as alkali metal alkyl borohydride (PMN P-00-1089) is subject to reporting under this section for the significant new use described in paragraph (a)(2) of this section.

(2) The significant new uses are:

(i) Release to water. Requirements as specified in § 721.90 (a)(1), (b)(1), and (c)(1).

(ii) [Reserved]

(b) Specific requirements. The provisions of subpart A of this part apply to this section except as modified by this paragraph.

(1) Recordkeeping. Recordkeeping requirements as specified in § 721.125 (a), (b), (c), and (k) are applicable to manufacturers, importers, and processors of this substance.

(2) Limitations or revocation of certain notification requirements. The provisions of § 721.185 apply to this section.

19. By adding new § 721.1880 to subpart E to read as follows:

§ 721.1880 Borate(1-), tris(acetato-.kappa.O)hydro-, sodium, (T-4)-.

(a) Chemical substance and significant new uses subject to reporting. (1) The chemical substance identified as borate(1-), tris(acetato-.kappa.O)hydro-, sodium, (T-4)- (PMN P-00-0922; CAS No. 56553-60-7) is subject to reporting under this section for the significant new use described in paragraph (a)(2) of this section.

(2) The significant new uses are:

(i) Release to water. Requirements as specified in § 721.90 (a)(4), (b)(4), and (c)(4) (N=300 ppb).

(ii) [Reserved]

(b) Specific requirements. The provisions of subpart A of this part apply to this section except as modified by this paragraph.

(1) Recordkeeping. Recordkeeping requirements as specified in § 721.125 (a), (b), (c), and (k) are applicable to manufacturers, importers, and processors of this substance.

(2) Limitations or revocation of certain notification requirements. The provisions of § 721.185 apply to this section.

20. By adding new § 721.2093 to subpart E to read as follows:

§ 721.2093 Alkenyl carboxylate, metal salt (generic).

(a) Chemical substance and significant new uses subject to reporting. (1) The chemical substance identified generically as alkenyl carboxylate, metal salt (PMN P-99-0848) is subject to reporting under this section for the significant new use described in paragraph (a)(2) of this section.

(2) The significant new uses are:

(i) Industrial, commercial, and consumer activities. Requirements as specified in § 721.80(j) (an emulsifier for metalworking fluids) and (q).

(ii) [Reserved]

(b) Specific requirements. The provisions of subpart A of this part apply to this section except as modified by this paragraph.

(1) Recordkeeping. Recordkeeping requirements as specified in § 721.125 (a), (b), (c), and (i) are applicable to manufacturers, importers, and processors of this substance.

(2) Limitations or revocation of certain notification requirements. The provisions of § 721.185 apply to this section.

(3) Determining whether a specific use is subject to this section. The provisions of § 721.1725(b)(1) apply to this section.

21. By adding new § 721.2155 to subpart E to read as follows:

§ 721.2155 Alkoxyamino-alkyl-coumarin (generic).

(a) Chemical substance and significant new uses subject to reporting. (1) The chemical substance identified generically as alkoxyamino-alkyl-coumarin. (PMN P-00-0108) is subject to reporting under this section for the significant new use described in paragraph (a)(2) of this section.

(2) The significant new uses are:

(i) Industrial, commercial, and consumer activities. Requirements as specified in § 721.80(f).

(ii) [Reserved]

(b) Specific requirements. The provisions of subpart A of this part apply to this section except as modified by this paragraph.

(1) Recordkeeping. Recordkeeping requirements as specified in § 721.125 (a), (b), (c), and (i) are applicable to manufacturers, importers, and processors of this substance.

(2) Limitations or revocation of certain notification requirements. The provisions of § 721.185 apply to this section.

22. By adding new § 721.2465 to subpart E to read as follows:

§ 721.2465 Xanthylium, 9-(2-(ethoxycarbonyl)phenyl)-3,6-bis(ethylamino)-2,7-dimethyl-, ethyl sulfate.

(a) Chemical substance and significant new uses subject to reporting. (1) The chemical substance identified as xanthylium, 9-(2-(ethoxycarbonyl)phenyl)-3,6-bis(ethylamino)-2,7-dimethyl-, ethyl sulfate (PMN P-00-1195; CAS No. 26694-69-9) is subject to reporting under this section for the significant new use described in paragraph (a)(2) of this section.

(2) The significant new uses are:

(i) Industrial, commercial, and consumer activities. Requirements as specified in § 721.80(f) and (j) (a basic dye for complex basic dye pigment manufacture).

(ii) [Reserved]

(b) Specific requirements. The provisions of subpart A of this part apply to this section except as modified by this paragraph.

(1) Recordkeeping. Recordkeeping requirements as specified in § 721.125 (a), (b), (c), and (k) are applicable to manufacturers, importers, and processors of this substance.

(2) Limitations or revocation of certain notification requirements. The provisions of § 721.185 apply to this section.

23. By adding new § 721.2577 to subpart E to read as follows:

§ 721.2577 Copper complex of (substituted sulfonaphthyl azo substituted phenyl) disulfonaphthyl azo, amine salt (generic).

(a) Chemical substance and significant new uses subject to reporting. (1) The chemical substances identified generically as copper complex of (substituted sulfonaphthyl azo substituted phenyl) disulfonaphthyl azo, amine salt (PMNs P-00-0364 and P-00-0365) are subject to reporting under this section for the significant new use described in paragraph (a)(2) of this section.

(2) The significant new uses are:

(i) Industrial, commercial, and consumer activities. Requirements as specified in § 721.80 (v)(1), (w)(1), (x)(1).

(ii) [Reserved]

(b) Specific requirements. The provisions of subpart A of this part apply to this section except as modified by this paragraph.

(1) Recordkeeping. Recordkeeping requirements as specified in § 721.125 (a), (b), (c), and (i) are applicable to manufacturers, importers, and processors of this substance.

(2) Limitations or revocation of certain notification requirements. The provisions of § 721.185 apply to this section.

24. By adding new § 721.2582 to subpart E to read as follows:

§ 721.2582 Reaction product of alkylene diamine, MDl, substituted carbomonocyclic amine and alkylamine (generic).

(a) Chemical substance and significant new uses subject to reporting. (1) The chemical substance identified generically as reaction product of alkylene diamine, MDl, substituted carbomonocyclic amine and alkylamine (PMN P-98-1262) is subject to reporting under this section for the significant new use described in paragraph (a)(2) of this section.

(2) The significant new uses are:

(i) Release to water. Requirements as specified in § 721.90 (a)(1), (b)(1), and (c)(1).

(ii) [Reserved]

(b) Specific requirements. The provisions of subpart A of this part apply to this section except as modified by this paragraph.

(1) Recordkeeping. Recordkeeping requirements as specified in § 721.125 (a), (b), (c), and (k) are applicable to manufacturers, importers, and processors of this substance.

(2) Limitations or revocation of certain notification requirements. The provisions of § 721.185 apply to this section.

25. By adding new § 721.2584 to subpart E to read as follows:

§ 721.2584 Dodecanoic acid, 12-amino-.

(a) Chemical substance and significant new uses subject to reporting. (1) The chemical substance identified as dodecanoic acid, 12-amino- (PMN P-98-0823; CAS No. 693-57-2) is subject to reporting under this section for the significant new uses described in paragraph (a)(2) of this section.

(2) The significant new uses are:

(i) Protection in the workplace. Requirements as specified in § 721.63 (a)(4), (a)(5)(iii), (a)(5)(iv), (a)(5)(v), (a)(5)(vi), (a)(5)(vii), (a)(6)(i), (b) (concentration set at 0.1 percent), and (g). As an alternative to the respiratory requirements listed here, a manufacturer, importer, or processor may choose to follow the NCEL provision listed in the 5(e) consent order for this substance. The NCEL is 1.0 mg/m³ as an 8-hour time-weighted average verified by actual monitoring data.

(ii) Hazard communication program. Requirements as specified in § 721.72 (a), (b), (c), (d), (e), (f), (g)(1)(ii), (g)(1)(vii), (g)(2)(ii), and (g)(2)(iv).

(iii) Industrial, commercial, and consumer activities. Requirements as specified in § 721.80 (g), (r) (6,000,000 kg.), and a carcinogenicity study (OPPTS 870.4200). A person may not manufacture or import the substance beyond the aggregate production volume limit, unless that person conducts this study on the substance and submits all final reports and underlying data in accordance with the procedures and criteria specified in paragraphs (a)(2)(iii)(A), (a)(2)(iii)(B), (a)(2)(iii)(C), and (a)(2)(iii)(D) of this section.

(A) Each study required to be performed pursuant to this section must be scientifically valid. Scientifically valid means that the study was conducted according to:

(1) The test guidelines specified in paragraph (a)(2)(iii) of this section.

(2) An EPA-approved protocol.

(3) TSCA Good Laboratory Practice Standards at 40 CFR part 792.

(4) Using methodologies generally accepted at the time the study is initiated.

(5) Any deviation from these requirements must be approved in writing by EPA.

(B) Before starting to conduct any of the studies in paragraph (a)(2)(iii) of this section, the person must obtain approval of test protocols from EPA by submitting written protocols. EPA will respond to the person within 4 weeks of receiving the written protocols. Published test guidelines specified in paragraph (a)(2)(iii) of this section (e.g., 40 CFR part 797 or part 798) provide general guidance for development of test protocols, but are not themselves acceptable protocols.

(C) The person shall:

(1) Conduct each study in good faith with due care.

(2) Promptly furnish to EPA the results of any interim phase of each study.

(3) Submit, in triplicate (with an additional sanitized copy, if confidential business information is involved), the final report of each study and all underlying data (“the report and data”) to EPA no later than 14 weeks prior to exceeding the applicable production volume limit. The final report shall contain the contents specified in 40 CFR 792.185.

(D)(1) Except as described in paragraph (a)(2)(iii)(D)(2) of this section, if, within 6 weeks of EPA's receipt of a test report and data, the person receives written notice that EPA finds that the data generated by a study are scientifically invalid, the person is prohibited from further manufacture and import of the PMN substance beyond the applicable production volume limit.

(2) The person may continue to manufacture and import the PMN substance beyond the applicable production limit only if so notified, in writing, by EPA in response to the person's compliance with either of the following paragraphs (a)(2)(iii)(D)(2)(i) or (a)(2)(iii)(D)(2)(ii) of this section.

(i) The person may reconduct the study. If there is sufficient time to reconduct the study and submit the report and data to EPA at least 14 weeks before exceeding the production limit as required by paragraph (a)(2)(iii)(C)(3) of this section, the person shall comply with paragraph (a)(2)(iii)(C)(3) of this section. If there is insufficient time for the person to comply with paragraph (a)(2)(iii)(C)(3) of this section, the person may exceed the production limit and shall submit the report and data in triplicate to EPA within a reasonable period of time, all as specified by EPA in the notice described in paragraph (a)(2)(iii)(D)(1) of this section. EPA will respond to the person in writing, within 6 weeks of receiving the person's report and data.

(ii) The person may, within 4 weeks of receiving from EPA the notice described in paragraph (a)(2)(iii)(D)(1) of this section, submit to EPA a written report refuting EPA's finding. EPA will respond to the person in writing, within 4 weeks of receiving the person's report.

(E) The person is not required to conduct a study specified in paragraph (a)(2)(iii) of this section if notified in writing by EPA that it is unnecessary to conduct that study.

(b) Specific requirements. The provisions of subpart A of this part apply to this section except as modified by this paragraph.

(1) Recordkeeping. Recordkeeping requirements as specified in § 721.125 (a), (b), (c), (d), and (i) are applicable to manufacturers, importers, and processors of this substance.

(2) Limitations or revocation of certain notification requirements. The provisions of § 721.185 apply to this section.

26. By adding new § 721.2673 to subpart E to read as follows:

§ 721.2673 Aromatic epoxide resin (generic).

(a) Chemical substance and significant new uses subject to reporting. (1) The chemical substance identified generically as aromatic epoxide resin (PMN P-99-1399) is subject to reporting under this section for the significant new use described in paragraph (a)(2) of this section.

(2) The significant new uses are:

(i) Industrial, commercial, and consumer activities. Requirements as specified in § 721.80(y)(1).

(ii) [Reserved]

(b) Specific requirements. The provisions of subpart A of this part apply to this section except as modified by this paragraph.

(1) Recordkeeping. Recordkeeping requirements as specified in § 721.125 (a), (b), (c), and (i) are applicable to manufacturers, importers, and processors of this substance.

(2) Limitations or revocation of certain notification requirements. The provisions of § 721.185 apply to this section.

27. By adding new § 721.3805 to subpart E to read as follows:

§ 721.3805 Formaldehyde, reaction products with 1,3-benzenedimethanamine and bisphenol A.

(a) Chemical substance and significant new uses subject to reporting. (1) The chemical substance identified as formaldehyde, reaction products with 1,3-benzenedimethanamine and bisphenol A (PMN P-00-0738; CAS No. 259871-68-6) is subject to reporting under this section for the significant new use described in paragraph (a)(2) of this section.

(2) The significant new uses are:

(i) Release to water. Requirements as specified in § 721.90 (a)(1), (b)(1), and (c)(1).

(ii) [Reserved]

(b) Specific requirements. The provisions of subpart A of this part apply to this section except as modified by this paragraph.

(1) Recordkeeping. Recordkeeping requirements as specified in § 721.125 (a), (b), (c), and (k) are applicable to manufacturers, importers, and processors of this substance.

(2) Limitations or revocation of certain notification requirements. The provisions of § 721.185 apply to this section.

28. By adding new § 721.3807 to subpart E to read as follows:

§ 721.3807 Formaldehyde, polymer with phenol and 1,2,3-propanetriol, methylated.

(a) Chemical substance and significant new uses subject to reporting. (1) The chemical substance identified as formaldehyde, polymer with phenol and 1,2,3-propanetriol, methylated (PMN P-99-0044; CAS No. 209810-57-1) is subject to reporting under this section for the significant new use described in paragraph (a)(2) of this section.

(2) The significant new uses are:

(i) Release to water. Requirements as specified in § 721.90 (a)(4), (b)(4), and (c)(4) (N=3 ppb).

(ii) [Reserved]

(b) Specific requirements. The provisions of subpart A of this part apply to this section except as modified by this paragraph.

(1) Recordkeeping. Recordkeeping requirements as specified in § 721.125 (a), (b), (c), and (k) are applicable to manufacturers, importers, and processors of this substance.

(2) Limitations or revocation of certain notification requirements. The provisions of § 721.185 apply to this section.

29. By adding new § 721.3812 to subpart E to read as follows:

§ 721.3812 Substituted phenols and formaldehyde polymer, alkylated (generic).

(a) Chemical substance and significant new uses subject to reporting. (1) The chemical substance identified generically as substituted phenols and formaldehyde polymer, alkylated (PMN P-00-0542) is subject to reporting under this section for the significant new use described in paragraph (a)(2) of this section.

(2) The significant new uses are:

(i) Industrial, commercial, and consumer activities. Requirements as specified in § 721.80(j) (a resin for can and tube coatings).

(ii) [Reserved]

(b) Specific requirements. The provisions of subpart A of this part apply to this section except as modified by this paragraph.

(1) Recordkeeping. Recordkeeping requirements as specified in § 721.125 (a), (b), (c), and (i) are applicable to manufacturers, importers, and processors of this substance.

(2) Limitations or revocation of certain notification requirements. The provisions of § 721.185 apply to this section.

30. By adding new § 721.3818 to subpart E to read as follows:

§ 721.3818 Furan, octafluorotetrahydro-.

(a) Chemical substance and significant new uses subject to reporting. (1) The chemical substance identified as furan, octafluorotetrahydro- (PMN P-99-0965; CAS No. 773-14-8) is subject to reporting under this section for the significant new use described in paragraph (a)(2) of this section.

(2) The significant new uses are:

(i) Industrial, commercial, and consumer activities. Requirements as specified in § 721.80(j) (a heat transfer agent).

(ii) [Reserved]

(b) Specific requirements. The provisions of subpart A of this part apply to this section except as modified by this paragraph.

(1) Recordkeeping. Recordkeeping requirements as specified in § 721.125 (a), (b), (c), and (i) are applicable to manufacturers, importers, and processors of this substance.

(2) Limitations or revocation of certain notification requirements. The provisions of § 721.185 apply to this section.

31. By adding new § 721.3848 to subpart E to read as follows:

§ 721.3848 Glycine, N-(carboxymethyl)-N-dodecyl-, monosodium salt.

(a) Chemical substance and significant new uses subject to reporting. (1) The chemical substance identified as glycine, N-(carboxymethyl)-N-dodecyl-, monosodium salt (PMN P-00-469; CAS No. 141321-68-8) is subject to reporting under this section for the significant new use described in paragraph (a)(2) of this section.

(2) The significant new uses are:

(i) Release to water. Requirements as specified in § 721.90 (a)(4), (b)(4), (c)(4) (N=30 ppb).

(ii) [Reserved]

(b) Specific requirements. The provisions of subpart A of this part apply to this section except as modified by this paragraph.

(1) Recordkeeping. Recordkeeping requirements as specified in § 721.125 (a), (b), (c), and (k) are applicable to manufacturers, importers, and processors of this substance.

(2) Limitations or revocation of certain notification requirements. The provisions of § 721.185 apply to this section.

32. By adding new § 721.4136 to subpart E to read as follows:

§ 721.4136 Alkyl heteropolycyclic-aniline (generic).

(a) Chemical substance and significant new uses subject to reporting. (1) The chemical substance identified generically as alkyl heteropolycyclic-aniline (PMN P-00-0067) is subject to reporting under this section for the significant new use described in paragraph (a)(2) of this section.

(2) The significant new uses are:

(i) Release to water. Requirements as specified in § 721.90 (a)(4), (b)(4), and (c)(4) (N=1 ppb).

(ii) [Reserved]

(b) Specific requirements. The provisions of subpart A of this part apply to this section except as modified by this paragraph.

(1) Recordkeeping. Recordkeeping requirements as specified in § 721.125 (a), (b), (c), and (k) are applicable to manufacturers, importers, and processors of this substance.

(2) Limitations or revocation of certain notification requirements. The provisions of § 721.185 apply to this section.

33. By adding new § 721.4486 to subpart E to read as follows:

§ 721.4486 Propanoic acid, 2-methyl-, (1R,2R,4R)-1,7,7-trimethylbicyclo[2.2.1]hept-2-yl ester, rel-.

(a) Chemical substance and significant new uses subject to reporting. (1) The chemical substances identified as propanoic acid, 2-methyl-, (1R,2R,4R)-1,7,7-trimethylbicyclo[2.2.1]hept-2-yl ester, rel- (PMNs P-98-0497 and P-98-0509; CAS No. 85586-67-0) are subject to reporting under this section for the significant new use described in paragraph (a)(2) of this section.

(2) The significant new uses are:

(i) Industrial, commercial, and consumer activities. Requirements as specified in § 721.80(p) (15,000 kg/yr).

(ii) [Reserved]

(b) Specific requirements. The provisions of subpart A of this part apply to this section except as modified by this paragraph.

(1) Recordkeeping. Recordkeeping requirements as specified in § 721.125 (a), (b), (c), and (i) are applicable to manufacturers, importers, and processors of this substance.

(2) Limitations or revocation of certain notification requirements. The provisions of § 721.185 apply to this section.

34. By adding new § 721.4575 to subpart E to read as follows:

§ 721.4575 L-aspartic acid, N,N'- [(1E) - 1,2 - ethenediylbis[(3-sulfo-4, 1-phenylene)imino [6-(phenylamino)-1,3,5-triazine- 4,2- diyl]]]bis-, hexasodium salt.

(a) Chemical substance and significant new uses subject to reporting. (1) The chemical substance identified as l-aspartic acid, N,N'- [(1E) - 1,2 - ethenediylbis[(3-sulfo-4, 1-phenylene) imino[6-(phenylamino)-1,3,5-triazine-4,2-diyl]]]bis-, hexasodium salt (PMN P-99-1167; CAS No. 205764-98-3) is subject to reporting under this section for the significant new use described in paragraph (a)(2) of this section.

(2) The significant new uses are:

(i) Industrial, commercial, and consumer activities. Requirements as specified in § 721.80 (v)(1), (w)(1), (x)(1), and (f).

(ii) [Reserved]

(b) Specific requirements. The provisions of subpart A of this part apply to this section except as modified by this paragraph.

(1) Recordkeeping. Recordkeeping requirements as specified in § 721.125 (a), (b), (c), and (i) are applicable to manufacturers, importers, and processors of this substance.

(2) Limitations or revocation of certain notification requirements. The provisions of § 721.185 apply to this section.

35. By adding new § 721.4792 to subpart E to read as follows:

§ 721.4792 2-propenoic acid, 2-methyl-, C11-14-isoalkyl esters, C13-rich.

(a) Chemical substance and significant new uses subject to reporting. (1) The chemical substance identified as 2-propenoic acid, 2-methyl-, C11-14-isoalkyl esters, C13-rich (PMN P-99-1189; CAS No. 85736-97-6) is subject to reporting under this section for the significant new use described in paragraph (a)(2) of this section.

(2) The significant new uses are:

(i) Industrial, commercial, and consumer activities. Requirements as specified in § 721.80(j) (a monomer for casting automotive parts adhesives or impregnation fluid).

(ii) Release to water. Requirements as specified in § 721.90(c)(4) (N=1 ppb).

(b) Specific requirements. The provisions of subpart A of this part apply to this section except as modified by this paragraph.

(1) Recordkeeping. Recordkeeping requirements as specified in § 721.125 (a), (b), (c), (i), and (k) are applicable to manufacturers, importers, and processors of this substance.

(2) Limitations or revocation of certain notification requirements. The provisions of § 721.185 apply to this section.

36. By adding new § 721.5260 to subpart E to read as follows:

§ 721.5260 1,3,6-Naphthalenetrisulfonic acid, 7-[[2-[(aminocarbonyl)amino]-4-[[4-[[2-[2-(ethenylsulfonyl)ethoxy]ethyl]amino]-6-fluoro-1,3,5-triazin-2-yl]amino]phenyl]azo], trisodium salt.

(a) Chemical substance and significant new uses subject to reporting. (1) The chemical substance identified as 1,3,6-Naphthalenetrisulfonic acid, 7-[[2-[(aminocarbonyl)amino]-4-[[4-[[2-[2-(ethenylsulfonyl)ethoxy]ethyl]amino]-6-fluoro-1,3,5-triazin-2-yl]amino]phenyl]azo], trisodium salt (PMN P-00-0806; CAS No. 106359-91-5) is subject to reporting under this section for the significant new use described in paragraph (a)(2) of this section.

(2) The significant new uses are:

(i) Industrial, commercial, and consumer activities. Requirements as specified in § 721.80(f).

(ii) [Reserved]

(b) Specific requirements. The provisions of subpart A of this part apply to this section except as modified by this paragraph.

(1) Recordkeeping. Recordkeeping requirements as specified in § 721.125 (a), (b), (c), and (i) are applicable to manufacturers, importers, and processors of this substance.

(2) Limitations or revocation of certain notification requirements. The provisions of § 721.185 apply to this section.

37. By adding new § 721.5262 to subpart E to read as follows:

§ 721.5262 2,7-Naphthalenedisulfonic acid, 5-[[4-chloro-6-[substituted] amino]-1,3,5-triazin-2-yl]amino]-4-hydroxy-3-[(1-sulfo-2-naphthalenyl)azo]-, trisodium salt (generic).

(a) Chemical substance and significant new uses subject to reporting. (1) The chemical substance identified generically as 2,7-Naphthalenedisulfonic acid, 5-[[4-chloro-6-[substituted] amino]-1,3,5-triazin-2-yl]amino]-4-hydroxy-3-[(1-sulfo-2-naphthalenyl)azo]-, trisodium salt (PMN P-00-0803) is subject to reporting under this section for the significant new use described in paragraph (a)(2) of this section.

(2) The significant new uses are:

(i) Industrial, commercial, and consumer activities. Requirements as specified in § 721.80(f).

(ii) [Reserved]

(b) Specific requirements. The provisions of subpart A of this part apply to this section except as modified by this paragraph.

(1) Recordkeeping. Recordkeeping requirements as specified in § 721.125 (a), (b), (c), and (i) are applicable to manufacturers, importers, and processors of this substance.

(2) Limitations or revocation of certain notification requirements. The provisions of § 721.185 apply to this section.

38. By adding new § 721.5283 to subpart E to read as follows:

§ 721.5283 Cobaltate (5-), bis[4-[[6-[(4-amino-6-chloro-1,3,5-triazin-2-yl)amio]-1-hydroxy-3-sulfo-2-naphthalenyl]azo]-3-hydroxy-7-nitro-1-naphthalenesulfonato(4-)]-, pentasodium.

(a) Chemical substance and significant new uses subject to reporting. (1) The chemical substance identified as cobaltate (5-), bis[4-[[6-[(4-amino-6-chloro-1,3,5-triazin-2-yl)amio]-1-hydroxy-3-sulfo-2-naphthalenyl]azo]-3-hydroxy-7-nitro-1-naphthalenesulfonato(4-)]-, pentasodium (PMN P-99-0990; CAS No. 91144-26-2) is subject to reporting under this section for the significant new use described in paragraph (a)(2) of this section.

(2) The significant new uses are:

(i) Protection in the workplace. Requirements as specified in § 721.63 (a)(4), (a)(5)(ii), (a)(5)(xii), and (a)(5)(xiii).

(ii) Industrial, commercial, and consumer activities. Requirements as specified in § 721.80(j) (a spray applied automotive coating).

(b) Specific requirements. The provisions of subpart A of this part apply to this section except as modified by this paragraph.

(1) Recordkeeping. Recordkeeping requirements as specified in § 721.125 (a), (b), (c), (d), and (i) are applicable to manufacturers, importers, and processors of this substance.

(2) Limitations or revocation of certain notification requirements. The provisions of § 721.185 apply to this section.

39. By adding new § 721.5286 to subpart E to read as follows:

§ 721.5286 Benzenediazonium, [[[[(substituted)azo]phenyl]sulfonyl]amino]-, coupled with aminophenol, diazotized aminobenzoic acid, diazotized (substituted) benzenesulfonic acid and naphthalenol (generic).

(a) Chemical substance and significant new uses subject to reporting. (1) The chemical substance identified generically as benzenediazonium, [[[[(substituted) azo]phenyl]sulfonyl]amino]-, coupled with aminophenol, diazotized aminobenzoic acid, diazotized (substituted) benzenesulfonic acid and naphthalenol (PMN P-00-0045) is subject to reporting under this section for the significant new use described in paragraph (a)(2) of this section.

(2) The significant new uses are:

(i) Industrial, commercial, and consumer activities. Requirements as specified in § 721.80(f).

(ii) [Reserved]

(b) Specific requirements. The provisions of subpart A of this part apply to this section except as modified by this paragraph.

(1) Recordkeeping. Recordkeeping requirements as specified in § 721.125 (a), (b), (c), and (i) are applicable to manufacturers, importers, and processors of this substance.

(2) Limitations or revocation of certain notification requirements. The provisions of § 721.185 apply to this section.

40. By adding new § 721.5452 to subpart E to read as follows:

§ 721.5452 Alkali metal salt of halogenated organoborate (generic).

(a) Chemical substance and significant new uses subject to reporting. (1) The chemical substances identified generically as alkali metal salt of halogenated organoborate (PMN P-00-0638) is subject to reporting under this section for the significant new use described in paragraph (a)(2) of this section.

(2) The significant new uses are:

(i) Release to water. Requirements as specified in § 721.90 (a)(1), (b)(1), and (c)(1).

(ii) [Reserved]

(b) Specific requirements. The provisions of subpart A of this part apply to this section except as modified by this paragraph.

(1) Recordkeeping. Recordkeeping requirements as specified in § 721.125 (a), (b), (c), and (k) are applicable to manufacturers, importers, and processors of this substance.

(2) Limitations or revocation of certain notification requirements. The provisions of § 721.185 apply to this section.

41. By adding new § 721.5454 to subpart E to read as follows:

§ 721.5454 Methylium, tripohenyl-, tetrakis(pentafluorophenyl) borate (1-).

(a) Chemical substance and significant new uses subject to reporting. (1) The chemical substances identified as methylium, tripohenyl-, tetrakis(pentafluorophenyl) borate (1-) (PMN P-00-0637; CAS No. 136040-19-2) is subject to reporting under this section for the significant new use described in paragraph (a)(2) of this section.

(2) The significant new uses are:

(i) Release to water. Requirements as specified in § 721.90 (a)(1), (b)(1), and (c)(1).

(ii) [Reserved]

(b) Specific requirements. The provisions of subpart A of this part apply to this section except as modified by this paragraph.

(1) Recordkeeping. Recordkeeping requirements as specified in § 721.125 (a), (b), (c), and (k) are applicable to manufacturers, importers, and processors of this substance.

(2) Limitations or revocation of certain notification requirements. The provisions of § 721.185 apply to this section.

42. By adding new § 721.5590 to subpart E to read as follows:

§ 721.5590 Oxirane, [[[(1R,2S,5R)-5-methyl-2-(1-methylethyl)cyclohexyl]oxy]methyl]-.

(a) Chemical substance and significant new uses subject to reporting. (1) The chemical substance identified as oxirane, [[[(1R,2S,5R)-5-methyl-2-(1-methylethyl)cyclohexyl]oxy]methyl]- (PMN P-00-0330; CAS No. 249297-16-3) is subject to reporting under this section for the significant new use described in paragraph (a)(2) of this section.

(2) The significant new uses are:

(i) Industrial, commercial, and consumer activities. Requirements as specified in § 721.80(g).

(ii) Release to water. Requirements as specified § 721.90 (a)(1), (b)(1), and (c)(1).

(b) Specific requirements. The provisions of subpart A of this part apply to this section except as modified by this paragraph.

(1) Recordkeeping. Recordkeeping requirements as specified in § 721.125 (a), (b), (c), (i), and (k) are applicable to manufacturers, importers, and processors of this substance.

(2) Limitations or revocation of certain notification requirements. The provisions of § 721.185 apply to this section.

43. By adding new § 721.5925 to subpart E to read as follows:

§ 721.5925 Bis heterocyclic phenylene derivative (generic).

(a) Chemical substance and significant new uses subject to reporting. (1) The chemical substance identified generically as bis heterocyclic phenylene derivative (PMN P-01-0432) is subject to reporting under this section for the significant new use described in paragraph (a)(2) of this section.

(2) The significant new uses are:

(i) Industrial, commercial, and consumer activities. Requirements as specified in § 721.80(p) (20,000 kg/yr).

(ii) [Reserved]

(b) Specific requirements. The provisions of subpart A of this part apply to this section except as modified by this paragraph.

(1) Recordkeeping. Recordkeeping requirements as specified in § 721.125 (a), (b), (c), and (i) are applicable to manufacturers, importers, and processors of this substance.

(2) Limitations or revocation of certain notification requirements. The provisions of § 721.185 apply to this section.

44. By adding new § 721.6005 to subpart E to read as follows:

§ 721.6005 Rare earth phosphate (generic).

(a) Chemical substance and significant new uses subject to reporting. (1) The chemical substances identified generically as rare earth phophate (PMNs P-99-1191 and P-99-1192) are subject to reporting under this section for the significant new use described in paragraph (a)(2) of this section.

(2) The significant new uses are:

(i) Release to water. Requirements as specified in § 721.90 (a)(4), (b)(4), and (c)(4) (N=10).

(ii) [Reserved]

(b) Specific requirements. The provisions of subpart A of this part apply to this section except as modified by this paragraph.

(1) Recordkeeping. Recordkeeping requirements as specified in § 721.125 (a), (b), (c), and (k) are applicable to manufacturers, importers, and processors of this substance.

(2) Limitations or revocation of certain notification requirements. The provisions of § 721.185 apply to this section.

45. By adding new § 721.6178 to subpart E to read as follows:

§ 721.6178 Alkylaminated polyolefin (generic).

(a) Chemical substance and significant new uses subject to reporting. (1) The chemical substance identified generically as alkylaminated polyolefin (PMN P-99-1287) is subject to reporting under this section for the significant new use described in paragraph (a)(2) of this section.

(2) The significant new uses are:

(i) Release to water. Requirements as specified in § 721.90 (a)(1), (b)(1), and (c)(1).

(ii) [Reserved]

(b) Specific requirements. The provisions of subpart A of this part apply to this section except as modified by this paragraph.

(1) Recordkeeping. Recordkeeping requirements as specified in § 721.125 (a), (b), (c), and (k) are applicable to manufacturers, importers, and processors of this substance.

(2) Limitations or revocation of certain notification requirements. The provisions of § 721.185 apply to this section.

46. By adding new § 721.6181 to subpart E to read as follows:

§ 721.6181 Fatty acid, reaction product with substituted oxirane, formaldehyde-phenol polymer glycidyl ether, substituted proplyamine and polyethylenepolyamines (generic).

(a) Chemical substance and significant new uses subject to reporting. (1) The chemical substance identified generically as fatty acid, reaction product with substituted oxirane, formaldehyde-phenol polymer glycidyl ether, substituted proplyamine and polyethylenepolyamines (PMN P-98-1125) is subject to reporting under this section for the significant new use described in paragraph (a)(2) of this section.

(2) The significant new uses are:

(i) Release to water. Requirements as specified in § 721.90 (a)(4), (b)(4), and (c)(4) (N=10ppb).

(ii) [Reserved]

(b) Specific requirements. The provisions of subpart A of this part apply to this section except as modified by this paragraph.

(1) Recordkeeping. Recordkeeping requirements as specified in § 721.125 (a), (b), (c), and (k) are applicable to manufacturers, importers, and processors of this substance.

(2) Limitations or revocation of certain notification requirements. The provisions of § 721.185 apply to this section.

47. By adding new § 721.6183 to subpart E to read as follows:

§ 721.6183 Amides, from ammonium hydroxide - maleic anhydride polymer and hydrogenated tallow alkyl amines, sodium salts, compds. with ethanolamine.

(a) Chemical substance and significant new uses subject to reporting. (1) The chemical substance identified as amides, from ammonium hydroxide - maleic anhydride polymer and hydrogenated tallow alkyl amines, sodium salts, compds. with ethanolamine (PMN P-00-0691; CAS No. 208408-03-1) is subject to reporting under this section for the significant new use described in paragraph (a)(2) of this section.

(2) The significant new uses are:

(i) Release to water. Requirements as specified in § 721.90 (a)(4), (b)(4), and (c)(4) (N=80 ppb).

(ii) [Reserved]

(b) Specific requirements. The provisions of subpart A of this part apply to this section except as modified by this paragraph.

(1) Recordkeeping. Recordkeeping requirements as specified in § 721.125 (a), (b), (c), and (k) are applicable to manufacturers, importers, and processors of this substance.

(2) Limitations or revocation of certain notification requirements. The provisions of § 721.185 apply to this section.

48. By adding new § 721.6205 to subpart E to read as follows:

§ 721.6205 Hexamethylenediamine adduct of substituted piperidinyloxy (generic).

(a) Chemical substance and significant new uses subject to reporting. (1) The chemical substance identified generically as hexamethylenediamine adduct of substituted piperidinyloxy (PMN P-99-0510) is subject to reporting under this section for the significant new use described in paragraph (a)(2) of this section.

(2) The significant new uses are:

(i) Protection in the workplace. Requirements as specified in § 721.63 (a)(i), (a)(2)(i), (a)(3), (a)(4), (a)(5)(i), (a)(5)(ii), (a)(5)(iii), (a)(5)(iv), (a)(5)(v), (a)(5)(vi), (a)(5)(vii), (a)(5)(viii), (a)(5)(ix), (a)(5)(x), (a)(5)(xi), (a)(5)(xii), (a)(5)(xiii) (a)(5)(xiv), (a)(5)(xv), (a)(6)(i), (a)(6)(ii), (a)(6)(iii), (a)(6)(iv), (a)(6)(v), and (a)(6)(vi), (b) (concentration set at 1.0 percent), and (c). The imperviousness of each item pursuant to paragraph (a)(2)(i) must be demonstrated by actual testing under paragraph (a)(3) and not by manufacturer specifications. Permeation testing shall be conducted according to the American Society for Testing and Materials (ASTM) F739 “Standard Test Method for Resistance of Protective Clothing Materials to Permeation by Liquids or Gases” or its equivalent. Results shall be recorded as a cumulative permeation rate as a function of time, and shall be documented in accordance with ASTM F739 using the format specified in ASTM 1194-89 “Guide for Documenting the Results of Chemical Permeation Testing on Protective Clothing Materials” or its equivalent. Gloves may not be used for a time period longer than they are actually tested and must be replaced at the end of each work shift. The manufacturer, importer, or processor must submit all test data to the Agency and must receive written Agency approval for each type of glove tested prior to use of such gloves. The following gloves have been tested in accordance with the ASTM F739 method and found to satisfy the requirements for use by EPA: Latex (at least 14 mils thick), Nitrile (at least 16 mils thick), and Silvershield (at least 3 mils thick). As an alternative to the respiratory requirements listed here, a manufacturer, importer, or processor may choose to follow the NCEL provisions listed in the TSCA section 5(e) consent order for this substance. The NCEL is 0.2 ug/m³ as an 8-hour time weighted average verified by actual monitoring data.

(ii) Hazard communication program. Requirements as specified in § 721.72 (a), (b), (c), (d), (e) (concentration set at 0.1 percent), (f), (g)(1)(i), (g)(1)(ii), (g)(1)(iv), (g)(1)(vi), (g)(1)(viii), (g)(2)(i), (g)(2)(ii), (g)(2)(iv), (g)(2)(v), and (g)(5).

(iii) Industrial, commercial, and consumer activities. Requirements as specified in § 721.80(q).

(b) Specific requirements. The provisions of subpart A of this part apply to this section except as modified by this paragraph.

(1) Recordkeeping. Recordkeeping requirements as specified in § 721.125 (a), (b), (c), (d), (e), (f), (g), (h), and (i) are applicable to manufacturers, importers, and processors of this substance.

(2) Limitations or revocation of certain notification requirements. The provisions of § 721.185 apply to this section.

(3) Determining whether a specific use is subject to this section. The provisions of § 721.1725(b)(1) apply to this section.

49. By adding new § 721.8085 to subpart E to read as follows:

§ 721.8085 Reaction product of substituted aromatic diol, formaldehyde and alkanolamine, propoxylated (generic).

(a) Chemical substance and significant new uses subject to reporting. (1) The chemical substance identified generically as reaction product of substituted aromatic diol, formaldehyde and alkanolamine, propoxylated (PMN P-00-0202) is subject to reporting under this section for the significant new use described in paragraph (a)(2) of this section.

(2) The significant new uses are:

(i) Release to water. Requirements as specified § 721.90 (a)(1), (b)(1), and (c)(1).

(ii) [Reserved]

(b) Specific requirements. The provisions of subpart A of this part apply to this section except as modified by this paragraph.

(1) Recordkeeping. Recordkeeping requirements as specified in § 721.125 (a), (b), (c), and (k) are applicable to manufacturers, importers, and processors of this substance.

(2) Limitations or revocation of certain notification requirements. The provisions of § 721.185 apply to this section.

50. By adding new § 721.8658 to subpart E to read as follows:

§ 721.8658 Modified polymer of vinyl acetate and quaternary ammonium compound (generic).

(a) Chemical substance and significant new uses subject to reporting. (1) The chemical substance identified generically as modified polymer of vinyl acetate and quaternary ammonium compound (PMN P-99-0874) is subject to reporting under this section for the significant new use described in paragraph (a)(2) of this section.

(2) The significant new uses are:

(i) Industrial, commercial, and consumer activities. Requirements as specified in § 721.80(f).

(ii) [Reserved]

(b) Specific requirements. The provisions of subpart A of this part apply to this section except as modified by this paragraph.

(1) Recordkeeping. Recordkeeping requirements as specified in § 721.125 (a), (b), (c), and (i) are applicable to manufacturers, importers, and processors of this substance.

(2) Limitations or revocation of certain notification requirements. The provisions of § 721.185 apply to this section.

51. By adding new § 721.8920 to subpart E to read as follows:

§ 721.8920 4,6-Disubstituted pyrimidine (generic).

(a) Chemical substance and significant new uses subject to reporting. (1) The chemical substance identified generically as 4,6-disubstituted pyrimidine (PMN P-99-1366) is subject to reporting under this section for the significant new use described in paragraph (a)(2) of this section.

(2) The significant new uses are:

(i) Industrial, commercial, and consumer activities. Requirements as specified in § 721.80(f).

(ii) [Reserved]

(b) Specific requirements. The provisions of subpart A of this part apply to this section except as modified by this paragraph.

(1) Recordkeeping. Recordkeeping requirements as specified in § 721.125 (a), (b), (c), and (i) are applicable to manufacturers, importers, and processors of this substance.

(2) Limitations or revocation of certain notification requirements. The provisions of § 721.185 apply to this section.

52. By adding new § 721.9502 to subpart E to read as follows:

§ 721.9502 Siloxanes and silicones, aminoalkyl, fluorooctyl, hydroxy-terminated salt (generic).

(a) Chemical substance and significant new uses subject to reporting. (1) The chemical substance identified generically as siloxanes and silicones, aminoalkyl, fluorooctyl, hydroxy-terminated salt (PMN P-00-1132) is subject to reporting under this section for the significant new use described in paragraph (a)(2) of this section.

(2) The significant new uses are:

(i) Industrial, commercial, and consumer activities. Requirements as specified in § 721.80(j) (graffiti systems) and (y)(1).

(ii) [Reserved]

(b) Specific requirements. The provisions of subpart A of this part apply to this section except as modified by this paragraph.

(1) Recordkeeping. Recordkeeping requirements as specified in § 721.125 (a), (b), (c), and (i) are applicable to manufacturers, importers, and processors of this substance.

(2) Limitations or revocation of certain notification requirements. The provisions of § 721.185 apply to this section.

(3) Determining whether a specific use is subject to this section. The provisions of § 721.1725(b)(1) apply to this section.

53. By adding new § 721.9504 to subpart E to read as follows:

§ 721.9504 Silane, triethoxy (3,3,4,4,5,5, 6,6,7,7,8,8,8-tridecafluorooctyl)-.

(a) Chemical substance and significant new uses subject to reporting. (1) The chemical substance identified as silane, triethoxy (3,3,4,4,5, 5,6,6,7,7,8,8,8-tridecafluorooctyl)- (PMN P-99-1346; CAS No. 51851-37-7) is subject to reporting under this section for the significant new use described in paragraph (a)(2) of this section.

(2) The significant new uses are:

(i) Protection in the workplace. Requirements as specified in § 721.63 (a)(4), (a)(5)(ii),( (a)(5)(xii), and (a)(5)(xiii).

(ii) Industrial, commercial, and consumer activities. Requirements as specified in § 721.80(o).

(b) Specific requirements. The provisions of subpart A of this part apply to this section except as modified by this paragraph.

(1) Recordkeeping. Recordkeeping requirements as specified in § 721.125 (a),(b), (c), (d), and (i) are applicable to manufacturers, importers, and processors of this substance.

(2) Limitations or revocation of certain notification requirements. The provisions of § 721.185 apply to this section.

54. By adding new § 721.9520 to subpart E to read as follows:

§ 721.9520 Methylated-para-rosaniline salt of a trisulfonated triarylmethane dye (generic).

(a) Chemical substance and significant new uses subject to reporting. (1) The chemical substance identified generically as methylated-para-rosaniline salt of a trisulfonated triarylmethane dye (PMN P-00-0559) is subject to reporting under this section for the significant new use described in paragraph (a)(2) of this section.

(2) The significant new uses are:

(i) Industrial, commercial, and consumer activities. Requirements as specified in § 721.80(f).

(ii) Release to water. Requirements as specified in § 721.90 (a)(4), (b)(4), (c)(4) (N=2 ppb).

(b) Specific requirements. The provisions of subpart A of this part apply to this section except as modified by this paragraph.

(1) Recordkeeping. Recordkeeping requirements as specified in § 721.125 (a), (b), (c), (i), and (k) are applicable to manufacturers, importers, and processors of this substance.

(2) Limitations or revocation of certain notification requirements. The provisions of § 721.185 apply to this section.

55. By adding new § 721.9538 to subpart E to read as follows:

§ 721.9538 Lithium salt of sulfophenyl azo phenyl azo disulfostilbene (generic).

(a) Chemical substance and significant new uses subject to reporting. (1) The chemical substance identified generically as lithium salt of sulfophenyl azo phenyl azo disulfostilbene (PMN P-00-0698) is subject to reporting under this section for the significant new use described in paragraph (a)(2) of this section.

(2) The significant new uses are:

(i) Industrial, commercial, and consumer activities. Requirements as specified in § 721.80 (v)(2), (w)(2), (x)(2).

(ii) [Reserved]

(b) Specific requirements. The provisions of subpart A of this part apply to this section except as modified by this paragraph.

(1) Recordkeeping. Recordkeeping requirements as specified in § 721.125 (a), (b), (c), and (i) are applicable to manufacturers, importers, and processors of this substance.

(2) Limitations or revocation of certain notification requirements. The provisions of § 721.185 apply to this section.

56. By adding new § 721.9597 to subpart E to read as follows:

§ 721.9597 Salt of a substituted sulfonated aryl azo compound (generic).

(a) Chemical substance and significant new uses subject to reporting. (1) The chemical substance identified generically as salt of a substituted sulfonated aryl azo compound (PMN P-00-0094) is subject to reporting under this section for the significant new use described in paragraph (a)(2) of this section.

(2) The significant new uses are:

(i) Industrial, commercial, and consumer activities. Requirements as specified in § 721.80 (f).

(ii) [Reserved]

(b) Specific requirements. The provisions of subpart A of this part apply to this section except as modified by this paragraph.

(1) Recordkeeping. Recordkeeping requirements as specified in § 721.125 (a), (b), (c), and (i) are applicable to manufacturers, importers, and processors of this substance.

(2) Limitations or revocation of certain notification requirements. The provisions of § 721.185 apply to this section.

57. By adding new § 721.9952 to subpart E to read as follows:

§ 721.9952 Alkoxylated aliphatic diisocyanate allyl ether (generic).

(a) Chemical substance and significant new uses subject to reporting. (1) The chemical substance identified generically as alkoxylated aliphatic diisocyanate allyl ether (PMN P-00-0353) is subject to reporting under this section for the significant new use described in paragraph (a)(2) of this section.

(2) The significant new uses are:

(i) Release to water. Requirements as specified § 721.90 (a)(1), (b)(1), and (c)(1).

(ii) [Reserved]

(b) Specific requirements. The provisions of subpart A of this part apply to this section except as modified by this paragraph.

(1) Recordkeeping. Recordkeeping requirements as specified in § 721.125 (a), (b), (c), and (k) are applicable to manufacturers, importers, and processors of this substance.

(2) Limitations or revocation of certain notification requirements. The provisions of § 721.185 apply to this section.

[FR Doc. 03-7373 Filed 3-27-03; 8:45 am]

BILLING CODE 6560-50-S